DEPARTMENT OF HOUSING AND URBAN DEVELOPMENT

[Docket No. FR-6327-C-02]

Notice of Annual Factors for Determining Administrative Fees for the Section 8 Housing Choice Voucher, Mainstream, and Moderate Rehabilitation Programs for Calendar Year 2021; Correction

AGENCY: Office of the Assistant Secretary for Public and Indian Housing, HUD.

ACTION: Notice, correction.

SUMMARY: On August 15, 2022, HUD published a notice in the Federal Register entitled, “Notice of Annual Factors for Determining Administrative Fees for the Section 8 Housing Choice Voucher, Mainstream, and Moderate Rehabilitation Programs for Calendar Year 2021”. The notice published omitted specific information and included incorrect website links. To clarify any misinformation, this notice replaces the notice published on August 15, 2022, and republishes the methodology HUD used in determining the on-going administrative fees for public housing agencies (PHAs) administering the Housing Choice Voucher (HCV), Mainstream, and Moderate Rehabilitation programs, including the Moderate Rehabilitation Single Room Occupancy program, during calendar year (CY) 2021.

FOR FURTHER INFORMATION CONTACT: Miguel A. Fontánez, Director, Housing Voucher Financial Management Division, Office of Public Housing and Voucher Programs, Office of Public and Indian Housing, Department of Housing and Urban Development, 451 Seventh Street SW, Room 4222, Washington, DC 20410-8000, telephone number 202-402-2934. (This is not a toll-free number). HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION: On August 15, 2022, HUD issued the “Notice of Annual Factors for Determining Administrative Fees for the Section 8 Housing Choice Voucher, Mainstream, and Moderate Rehabilitation Programs for Calendar Year 2021” at 87 FR 50095. The notice published omitted specific information and included incorrect website links. This notice replaces that notice in its entirety for added clarity but does not change the Annual Factors for Determining Administrative Fees.

A. Background

HUD is required by statute to notify the public of the methodology used to determine administrative fee rates for each calendar year. HUD is issuing this Notice in compliance with this statutory requirement. The 2021 administrative fee rates were previously published at the following link: https://www.hud.gov/program_offices/public_indian_housing/programs/hcv/guidance_and_notices. This Notice provides HUD's methodology used to determine the CY 2021 administrative fee rates by area, which HUD used to determine administrative fees for the HCV, Mainstream, and Moderate Rehabilitation programs, including the Moderate Rehabilitation Single Room Occupancy (SRO) program. The HCV program is the Federal government's major program for assisting very low-income families, the elderly, and the disabled to afford decent, safe, and sanitary housing in the private market.

Mainstream Vouchers are tenant-based vouchers serving households that include a non-elderly person with a disability. The Moderate Rehabilitation program provides project-based rental assistance for low-income families and the Mod Rehab SRO program provides assistance to individuals experiencing homelessness. Both programs have been repealed and no new projects are authorized for development. Assistance is limited to properties previously rehabilitated pursuant to an Agreement to enter into a Housing Assistance Payments (HAP) Contract between an owner and a PHA, with assistance being provided pursuant to a HAP contract between the PHA and owner.

B. CY 2021 Methodology

For CY 2021, in accordance with the 2021 Consolidated Appropriations Act (Pub. L. 116-260), administrative fees were determined based on vouchers leased as of the first day of each month. This data was extracted from the Voucher Management System (VMS) at the close of each reporting cycle and validated prior to use. For the Moderate Rehabilitation program, including the SRO program, administrative fees were earned based on the units under a HAP contract. In some cases, the fee rates calculated for CY 2021 were lower than those established for CY 2020. In these cases, the affected PHAs were held harmless at the CY 2020 fee rates.

The fee rates for each PHA generally cover the fees for areas in which the PHA had the greatest proportion of its participants. This was determined using Public Housing Information Center (PIC) data submitted by the PHA. In some cases, PHAs had participants in more than one fee area. If such a PHA chooses, the PHA could request that HUD establish a blended fee rate to proportionately all areas in which participants were located. Once a blended rate was established, it was used to determine the PHA's fee eligibility for all months in CY 2021. The 2021 HCV Funding Implementation Notice described how to apply for blended fee rates and the deadline date for submitting such requests. The notice can be accessed through the following link: https://www.hud.gov/sites/dfiles/PIH/documents/pih2021-10.pdf.

PHAs operating over large geographic areas, defined as multiple counties, could request a higher administrative fee rate if eligible under the criteria described in the CY 2021 implementation notice. The 2021 HCV Funding Implementation Notice described when to apply for higher fee rates and the deadline date for such requests. Higher administrative fee rates differed from blended administrative fee rates in how they were calculated. Requests for higher administrative rates must have clearly demonstrated that the PHA's published rate cannot cover their projected expenses. Next, a breakeven rate was calculated to ensure the PHA received sufficient funds to cover their expenses while also ensuring the administrative fee reserves did not grow.

This notice identifies the monthly per-voucher-unit fee rates that were used in CY 2021 to determine PHA administrative fee eligibility for the programs identified in this notice. These fee rates remain posted on the Department's website at: http://portal.hud.gov/hudportal/HUD?src=/program_offices/public_indian_housing/programs/hcv, under Program Related Information.

Questions concerning this notice should be directed to the PHA's assigned representative at the Financial Management Center or the Financial Management Division at PIHFinancialManagementDivision@hud.gov.

C. Moving To Work (MTW) Agencies

In cases where an MTW Agency has an alternative formula for calculating HCV administrative fees in Attachment A of its MTW Agreement, HUD calculates the HCV administrative fees in accordance with the MTW Agreement provision.

Dominique Blom,
General Deputy Assistant Secretary for Public and Indian Housing.

PHA | A rate | B rate
AK901 | $105.58 | $98.55
AL001 | 70.47 | 65.77
AL002 | 71.58 | 66.82
AL004 | 69.54 | 64.90
AL005 | 73.06 | 68.19
AL006 | 69.54 | 64.90
AL007 | 69.54 | 64.90
AL008 | 68.62 | 64.05
AL011 | 68.62 | 64.05
AL012 | 69.54 | 64.90
AL014 | 68.62 | 64.05
AL047 | 71.60 | 66.84
AL048 | 69.54 | 64.90
AL049 | 69.54 | 64.90
AL050 | 69.54 | 64.90
AL052 | 68.62 | 64.05
AL053 | 68.62 | 64.05
AL054 | 69.54 | 64.90
AL060 | 68.62 | 64.05
AL061 | 69.54 | 64.90
AL063 | 70.47 | 65.77
AL068 | 69.54 | 64.90
AL069 | 70.47 | 65.77
AL072 | 70.47 | 65.77
AL073 | 68.79 | 64.20
AL075 | 68.62 | 64.05
AL077 | 69.54 | 64.90
AL086 | 70.47 | 65.77
AL090 | 68.62 | 64.05
AL091 | 68.62 | 64.05
AL099 | 68.62 | 64.05
AL105 | 68.62 | 64.05
AL107 | 68.62 | 64.05
AL112 | 68.62 | 64.05
AL114 | 68.62 | 64.05
AL115 | 68.62 | 64.05
AL116 | 68.62 | 64.05
AL118 | 68.62 | 64.05
AL121 | 68.62 | 64.05
AL124 | 68.79 | 64.20
AL125 | 70.47 | 65.77
AL129 | 69.54 | 64.90
AL131 | 69.54 | 64.90
AL138 | 69.54 | 64.90
AL139 | 69.54 | 64.90
AL152 | 69.54 | 64.90
AL154 | 68.62 | 64.05
AL155 | 68.62 | 64.05
AL160 | 68.62 | 64.05
AL165 | 72.62 | 67.78
AL169 | 71.58 | 66.82
AL171 | 68.62 | 64.05
AL172 | 69.54 | 64.90
AL174 | 68.62 | 64.05
AL177 | 68.62 | 64.05
AL181 | 68.62 | 64.05
AL192 | 68.62 | 64.05
AL202 | 71.58 | 66.82
AR002 | 72.66 | 67.83
AR003 | 67.37 | 62.88
AR004 | 72.66 | 67.83
AR006 | 72.66 | 67.83
AR010 | 64.07 | 59.80
AR012 | 64.07 | 59.80
AR015 | 67.59 | 63.08
AR016 | 64.07 | 59.80
AR017 | 66.60 | 62.16
AR020 | 64.07 | 59.80
AR024 | 70.49 | 65.79
AR031 | 66.60 | 62.16
AR033 | 64.07 | 59.80
AR034 | 66.60 | 62.16
AR035 | 64.07 | 59.80
AR037 | 64.07 | 59.80
AR039 | 64.07 | 59.80
AR041 | 72.66 | 67.83
AR042 | 66.60 | 62.16
AR045 | 64.07 | 59.80
AR052 | 64.07 | 59.80
AR066 | 64.07 | 59.80
AR068 | 64.07 | 59.80
AR082 | 64.07 | 59.80
AR104 | 66.60 | 62.16
AR117 | 64.07 | 59.80
AR121 | 64.07 | 59.80
AR131 | 66.60 | 62.16
AR152 | 64.07 | 59.80
AR161 | 64.07 | 59.80
AR163 | 66.60 | 62.16
AR166 | 64.07 | 59.80
AR170 | 72.66 | 67.83
AR175 | 72.66 | 67.83
AR176 | 64.07 | 59.80
AR177 | 64.07 | 59.80
AR181 | 66.60 | 62.16
AR194 | 67.37 | 62.88
AR197 | 64.07 | 59.80
AR200 | 64.07 | 59.80
AR210 | 64.07 | 59.80
AR211 | 64.07 | 59.80
AR213 | 64.07 | 59.80
AR214 | 64.07 | 59.80
AR215 | 64.07 | 59.80
AR223 | 64.07 | 59.80
AR224 | 64.07 | 59.80
AR225 | 64.07 | 59.80
AR232 | 66.60 | 62.16
AR240 | 64.07 | 59.80
AR241 | 66.97 | 62.51
AR247 | 64.07 | 59.80
AR252 | 72.66 | 67.83
AR257 | 64.07 | 59.80
AR264 | 70.49 | 65.79
AR265 | 64.07 | 59.80
AR266 | 64.07 | 59.80
AZ001 | 76.57 | 71.46
AZ003 | 76.57 | 71.46
AZ004 | 75.70 | 70.64
AZ005 | 76.57 | 71.46
AZ006 | 83.71 | 78.14
AZ008 | 61.13 | 57.06
AZ009 | 76.57 | 71.46
AZ010 | 76.57 | 71.46
AZ013 | 85.07 | 79.40
AZ021 | 76.57 | 71.46
AZ023 | 64.42 | 60.12
AZ025 | 75.70 | 70.64
AZ028 | 76.57 | 71.46
AZ031 | 76.57 | 71.46
AZ032 | 76.57 | 71.46
AZ033 | 75.70 | 70.64
AZ034 | 62.91 | 58.71
AZ035 | 85.07 | 79.40
AZ037 | 62.91 | 58.71
AZ041 | 83.71 | 78.14
AZ043 | 102.52 | 95.69
AZ045 | 63.35 | 59.12
AZ880 | 76.57 | 71.46
AZ901 | 83.71 | 78.14
CA001 | 132.51 | 123.69
CA002 | 132.51 | 123.69
CA003 | 132.51 | 123.69
CA004 | 132.51 | 123.69
CA005 | 100.64 | 93.93
CA006 | 92.33 | 86.17
CA007 | 100.64 | 93.93
CA008 | 100.98 | 94.25
CA011 | 132.51 | 123.69
CA014 | 132.51 | 123.69
CA019 | 105.71 | 98.67
CA021 | 129.40 | 120.75
CA022 | 105.71 | 98.67
CA023 | 86.76 | 80.98
CA024 | 96.56 | 90.13
CA026 | 97.24 | 90.74
CA027 | 105.71 | 98.67
CA028 | 92.33 | 86.17
CA030 | 86.10 | 80.37
CA031 | 132.51 | 123.69
CA032 | 132.51 | 123.69
CA033 | 114.17 | 106.54
CA035 | 132.51 | 123.69
CA039 | 96.08 | 89.68
CA041 | 115.04 | 107.37
CA043 | 88.74 | 82.81
CA044 | 100.64 | 93.93
CA048 | 76.15 | 71.07
CA052 | 132.51 | 123.69
CA053 | 83.34 | 77.78
CA055 | 115.04 | 107.37
CA056 | 132.51 | 123.69
CA058 | 132.51 | 123.69
CA059 | 132.51 | 123.69
CA060 | 132.51 | 123.69
CA061 | 87.64 | 81.79
CA062 | 132.51 | 123.69
CA063 | 118.48 | 110.57
CA064 | 114.71 | 107.06
CA065 | 115.04 | 107.37
CA066 | 115.04 | 107.37
CA067 | 132.51 | 123.69
CA068 | 132.51 | 123.69
CA069 | 92.33 | 86.17
CA070 | 80.20 | 74.86
CA071 | 132.51 | 123.69
CA072 | 132.51 | 123.69
CA073 | 115.04 | 107.37
CA074 | 132.51 | 123.69
CA075 | 132.51 | 123.69
CA076 | 129.40 | 120.75
CA077 | 118.48 | 110.57
CA079 | 132.51 | 123.69
CA082 | 132.51 | 123.69
CA084 | 94.45 | 88.15
CA085 | 129.24 | 120.64
CA086 | 90.28 | 84.25
CA088 | 129.24 | 120.64
CA092 | 132.51 | 123.69
CA093 | 132.51 | 123.69
CA094 | 132.51 | 123.69
CA096 | 92.33 | 86.17
CA102 | 132.51 | 123.69
CA103 | 132.51 | 123.69
CA104 | 132.51 | 123.69
CA105 | 132.51 | 123.69
CA106 | 92.33 | 86.17
CA108 | 118.48 | 110.57
CA110 | 132.51 | 123.69
CA111 | 132.51 | 123.69
CA114 | 132.51 | 123.69
CA116 | 118.48 | 110.57
CA117 | 132.51 | 123.69
CA118 | 132.51 | 123.69
CA119 | 132.51 | 123.69
CA120 | 132.51 | 123.69
CA121 | 132.51 | 123.69
CA123 | 132.51 | 123.69
CA125 | 115.04 | 107.37
CA126 | 132.51 | 123.69
CA128 | 100.64 | 93.93
CA131 | 115.04 | 107.37
CA132 | 118.48 | 110.57
CA136 | 132.51 | 123.69
CA143 | 96.08 | 89.68
CA144 | 87.64 | 81.79
CA149 | 100.64 | 93.93
CA151 | 100.64 | 93.93
CA155 | 118.48 | 110.57
CO001 | 80.87 | 75.48
CO002 | 74.71 | 69.72
CO005 | 84.45 | 78.82
CO006 | 72.29 | 67.47
CO016 | 91.77 | 85.64
CO019 | 80.87 | 75.48
CO024 | 72.29 | 67.47
CO028 | 75.44 | 70.42
CO031 | 72.29 | 67.47
CO034 | 86.96 | 81.17
CO035 | 74.99 | 70.00
CO036 | 80.87 | 75.48
CO040 | 111.64 | 104.20
CO041 | 86.96 | 81.17
CO043 | 84.45 | 78.82
CO045 | 72.29 | 67.47
CO048 | 80.87 | 75.48
CO049 | 80.87 | 75.48
CO050 | 80.87 | 75.48
CO051 | 94.61 | 88.30
CO052 | 80.87 | 75.48
CO057 | 80.87 | 75.48
CO058 | 80.87 | 75.48
CO061 | 91.77 | 85.64
CO070 | 91.77 | 85.64
CO071 | 75.44 | 70.42
CO072 | 80.87 | 75.48
CO079 | 84.45 | 78.82
CO087 | 111.64 | 104.20
CO090 | 74.99 | 70.00
CO095 | 106.75 | 99.63
CO101 | 72.29 | 67.47
CO103 | 86.96 | 81.17
CO888 | 74.71 | 69.72
CO911 | 80.87 | 75.48
CO921 | 80.87 | 75.48
CT001 | 102.92 | 96.06
CT002 | 110.32 | 102.97
CT003 | 97.01 | 90.53
CT004 | 106.93 | 99.80
CT005 | 97.01 | 90.53
CT006 | 87.62 | 81.78
CT007 | 110.32 | 102.97
CT008 | 97.01 | 90.53
CT009 | 97.01 | 90.53
CT010 | 87.62 | 81.78
CT011 | 106.93 | 99.80
CT013 | 97.01 | 90.53
CT015 | 102.92 | 96.06
CT017 | 102.92 | 96.06
CT018 | 95.23 | 88.88
CT019 | 110.32 | 102.97
CT020 | 110.32 | 102.97
CT023 | 97.01 | 90.53
CT024 | 87.62 | 81.78
CT026 | 97.01 | 90.53
CT027 | 102.92 | 96.06
CT028 | 97.01 | 90.53
CT029 | 106.93 | 99.80
CT030 | 102.92 | 96.06
CT031 | 85.76 | 80.04
CT032 | 97.01 | 90.53
CT033 | 97.01 | 90.53
CT036 | 97.01 | 90.53
CT038 | 97.01 | 90.53
CT039 | 97.01 | 90.53
CT040 | 97.01 | 90.53
CT041 | 97.01 | 90.53
CT042 | 106.93 | 99.80
CT047 | 87.62 | 81.78
CT048 | 97.01 | 90.53
CT049 | 97.01 | 90.53
CT051 | 97.01 | 90.53
CT052 | 102.92 | 96.06
CT053 | 97.01 | 90.53
CT058 | 87.62 | 81.78
CT061 | 87.62 | 81.78
CT063 | 106.93 | 99.80
CT067 | 106.93 | 99.80
CT068 | 97.01 | 90.53
CT901 | 97.01 | 90.53
DC001 | 119.93 | 111.95
DC880 | 119.93 | 111.95
DE001 | 95.93 | 89.53
DE002 | 81.97 | 76.51
DE003 | 95.93 | 89.53
DE005 | 95.93 | 89.53
DE901 | 81.97 | 76.51
FL001 | 77.34 | 72.19
FL002 | 81.65 | 76.20
FL003 | 81.65 | 76.20
FL004 | 85.28 | 79.59
FL005 | 110.80 | 103.42
FL007 | 81.85 | 76.40
FL008 | 89.61 | 83.64
FL009 | 86.52 | 80.75
FL010 | 103.74 | 96.83
FL011 | 67.96 | 63.43
FL013 | 110.95 | 103.57
FL015 | 72.67 | 67.82
FL017 | 110.80 | 103.42
FL018 | 66.39 | 61.96
FL019 | 78.72 | 73.49
FL020 | 78.72 | 73.49
FL021 | 86.52 | 80.75
FL022 | 81.85 | 76.40
FL023 | 89.61 | 83.64
FL024 | 81.85 | 76.40
FL025 | 78.72 | 73.49
FL026 | 67.96 | 63.43
FL028 | 103.74 | 96.83
FL030 | 81.85 | 76.40
FL031 | 64.53 | 60.23
FL032 | 66.92 | 62.45
FL033 | 85.28 | 79.59
FL034 | 81.65 | 76.20
FL035 | 66.39 | 61.96
FL037 | 77.34 | 72.19
FL041 | 86.98 | 81.19
FL045 | 86.98 | 81.19
FL046 | 66.39 | 61.96
FL047 | 85.84 | 80.13
FL049 | 64.53 | 60.23
FL053 | 66.92 | 62.45
FL057 | 64.53 | 60.23
FL060 | 83.59 | 78.02
FL062 | 81.65 | 76.20
FL063 | 73.37 | 68.48
FL066 | 110.80 | 103.42
FL068 | 110.80 | 103.42
FL069 | 66.39 | 61.96
FL070 | 73.37 | 68.48
FL071 | 67.96 | 63.43
FL072 | 81.85 | 76.40
FL073 | 72.67 | 67.82
FL075 | 81.65 | 76.20
FL079 | 103.74 | 96.83
FL080 | 86.52 | 80.75
FL081 | 103.74 | 96.83
FL083 | 86.52 | 80.75
FL092 | 66.92 | 62.45
FL093 | 85.28 | 79.59
FL102 | 66.39 | 61.96
FL104 | 81.65 | 76.20
FL105 | 89.61 | 83.64
FL106 | 85.28 | 79.59
FL110 | 66.39 | 61.96
FL113 | 81.85 | 76.40
FL116 | 103.74 | 96.83
FL119 | 86.52 | 80.75
FL123 | 81.42 | 75.99
FL128 | 85.84 | 80.13
FL132 | 86.66 | 80.91
FL136 | 103.74 | 96.83
FL137 | 81.65 | 76.20
FL139 | 67.96 | 63.43
FL141 | 89.33 | 83.37
FL144 | 110.95 | 103.57
FL145 | 110.80 | 103.42
FL147 | 66.39 | 61.96
FL201 | 85.28 | 79.59
FL202 | 64.53 | 60.23
FL881 | 110.80 | 103.42
FL888 | 81.65 | 76.20
GA001 | 73.06 | 68.19
GA002 | 73.06 | 68.19
GA004 | 73.06 | 68.19
GA006 | 89.08 | 83.13
GA007 | 73.06 | 68.19
GA009 | 73.06 | 68.19
GA010 | 89.08 | 83.13
GA011 | 89.08 | 83.13
GA023 | 73.06 | 68.19
GA062 | 69.28 | 64.66
GA078 | 89.08 | 83.13
GA095 | 89.08 | 83.13
GA116 | 89.08 | 83.13
GA188 | 89.08 | 83.13
GA228 | 89.08 | 83.13
GA232 | 89.08 | 83.13
GA237 | 89.08 | 83.13
GA264 | 89.08 | 83.13
GA269 | 89.08 | 83.13
GA285 | 73.06 | 68.19
GA901 | 89.08 | 83.13
GQ901 | 122.03 | 113.90
HI002 | 122.57 | 114.40
HI003 | 135.89 | 126.84
HI004 | 135.90 | 126.85
HI005 | 138.05 | 128.86
HI901 | 135.89 | 126.84
IA002 | 68.84 | 64.25
IA004 | 72.37 | 67.55
IA015 | 68.84 | 64.25
IA018 | 72.49 | 67.66
IA020 | 81.99 | 76.53
IA022 | 83.57 | 78.01
IA023 | 73.28 | 68.40
IA024 | 79.38 | 74.08
IA030 | 68.84 | 64.25
IA038 | 79.69 | 74.38
IA042 | 68.84 | 64.25
IA045 | 76.02 | 70.96
IA047 | 68.84 | 64.25
IA049 | 68.84 | 64.25
IA050 | 79.69 | 74.38
IA056 | 68.84 | 64.25
IA057 | 68.84 | 64.25
IA084 | 68.84 | 64.25
IA087 | 73.46 | 68.56
IA098 | 72.52 | 67.70
IA100 | 68.84 | 64.25
IA107 | 68.84 | 64.25
IA108 | 68.84 | 64.25
IA113 | 79.69 | 74.38
IA114 | 68.84 | 64.25
IA117 | 73.28 | 68.40
IA119 | 68.84 | 64.25
IA120 | 81.99 | 76.53
IA122 | 68.84 | 64.25
IA124 | 68.84 | 64.25
IA125 | 68.84 | 64.25
IA126 | 76.02 | 70.96
IA127 | 68.84 | 64.25
IA128 | 68.84 | 64.25
IA129 | 68.84 | 64.25
IA130 | 68.84 | 64.25
IA131 | 81.99 | 76.53
IA132 | 79.69 | 74.38
ID005 | 71.57 | 66.80
ID013 | 88.94 | 83.01
ID016 | 88.94 | 83.01
ID021 | 88.94 | 83.01
ID901 | 74.09 | 69.14
IL002 | 100.65 | 93.93
IL003 | 79.48 | 74.18
IL004 | 72.43 | 67.60
IL006 | 70.94 | 66.21
IL009 | 76.02 | 70.96
IL010 | 76.02 | 70.96
IL011 | 64.37 | 60.08
IL012 | 68.54 | 63.97
IL014 | 76.95 | 71.82
IL015 | 69.71 | 65.05
IL016 | 64.32 | 60.03
IL018 | 76.02 | 70.96
IL020 | 76.02 | 70.96
IL022 | 72.28 | 67.46
IL024 | 100.65 | 93.93
IL025 | 100.65 | 93.93
IL026 | 100.65 | 93.93
IL028 | 72.43 | 67.60
IL030 | 69.71 | 65.05
IL032 | 76.95 | 71.82
IL034 | 70.94 | 66.21
IL035 | 76.95 | 71.82
IL037 | 64.32 | 60.03
IL038 | 64.32 | 60.03
IL039 | 68.67 | 64.10
IL040 | 64.32 | 60.03
IL043 | 64.32 | 60.03
IL050 | 64.37 | 60.08
IL051 | 70.69 | 65.98
IL052 | 64.32 | 60.03
IL053 | 64.37 | 60.08
IL054 | 100.65 | 93.93
IL056 | 100.65 | 93.93
IL057 | 64.32 | 60.03
IL059 | 64.32 | 60.03
IL061 | 65.08 | 60.74
IL074 | 69.71 | 65.05
IL076 | 64.32 | 60.03
IL079 | 64.32 | 60.03
IL082 | 64.32 | 60.03
IL083 | 72.28 | 67.46
IL084 | 68.23 | 63.68
IL085 | 65.67 | 61.30
IL086 | 68.23 | 63.68
IL087 | 64.32 | 60.03
IL088 | 64.32 | 60.03
IL089 | 79.77 | 74.45
IL090 | 100.65 | 93.93
IL091 | 64.32 | 60.03
IL092 | 100.65 | 93.93
IL095 | 75.44 | 70.41
IL096 | 64.32 | 60.03
IL101 | 100.65 | 93.93
IL103 | 100.65 | 93.93
IL104 | 79.48 | 74.18
IL107 | 100.65 | 93.93
IL116 | 100.65 | 93.93
IL117 | 70.69 | 65.98
IL120 | 64.32 | 60.03
IL122 | 72.28 | 67.46
IL123 | 64.32 | 60.03
IL124 | 79.48 | 74.18
IL126 | 64.37 | 60.08
IL130 | 100.65 | 93.93
IL131 | 76.02 | 70.96
IL136 | 100.65 | 93.93
IL137 | 101.52 | 94.74
IL901 | 100.65 | 93.93
IN002 | 55.79 | 52.07
IN003 | 61.62 | 57.52
IN004 | 57.40 | 53.57
IN005 | 57.40 | 53.57
IN006 | 68.13 | 63.59
IN007 | 59.94 | 55.95
IN009 | 55.79 | 52.07
IN010 | 75.23 | 70.22
IN011 | 75.23 | 70.22
IN012 | 64.25 | 59.97
IN015 | 60.65 | 56.61
IN016 | 59.56 | 55.59
IN017 | 68.13 | 63.59
IN018 | 55.79 | 52.07
IN019 | 59.42 | 55.45
IN020 | 60.65 | 56.61
IN021 | 57.40 | 53.57
IN022 | 61.07 | 57.01
IN023 | 64.25 | 59.97
IN025 | 64.25 | 59.97
IN026 | 59.55 | 55.58
IN029 | 75.23 | 70.22
IN031 | 55.79 | 52.07
IN032 | 56.79 | 53.00
IN035 | 57.40 | 53.57
IN037 | 59.56 | 55.59
IN041 | 55.79 | 52.07
IN043 | 55.79 | 52.07
IN047 | 55.79 | 52.07
IN048 | 55.79 | 52.07
IN050 | 55.79 | 52.07
IN055 | 56.79 | 53.00
IN056 | 58.40 | 54.50
IN058 | 62.17 | 58.04
IN060 | 59.55 | 55.58
IN062 | 59.89 | 55.91
IN067 | 55.79 | 52.07
IN071 | 65.80 | 61.40
IN073 | 55.79 | 52.07
IN078 | 58.40 | 54.50
IN079 | 68.13 | 63.59
IN080 | 68.13 | 63.59
IN086 | 55.79 | 52.07
IN091 | 55.79 | 52.07
IN092 | 55.79 | 52.07
IN094 | 57.54 | 53.70
IN100 | 60.65 | 56.61
IN901 | 68.13 | 63.59
KS001 | 67.77 | 63.24
KS002 | 64.34 | 60.06
KS004 | 69.32 | 64.69
KS006 | 60.45 | 56.42
KS017 | 60.45 | 56.42
KS038 | 60.45 | 56.42
KS041 | 60.45 | 56.42
KS043 | 67.77 | 63.24
KS053 | 71.11 | 66.37
KS062 | 60.45 | 56.42
KS063 | 61.09 | 57.01
KS068 | 67.77 | 63.24
KS073 | 69.32 | 64.69
KS091 | 60.45 | 56.42
KS149 | 60.45 | 56.42
KS159 | 60.45 | 56.42
KS161 | 60.45 | 56.42
KS162 | 67.77 | 63.24
KS165 | 60.45 | 56.42
KS166 | 60.45 | 56.42
KS167 | 61.09 | 57.01
KS168 | 64.34 | 60.06
KS170 | 60.45 | 56.42
KY001 | 64.25 | 59.97
KY003 | 57.43 | 53.60
KY004 | 71.16 | 66.42
KY007 | 56.37 | 52.62
KY008 | 56.37 | 52.62
KY009 | 64.25 | 59.97
KY011 | 71.40 | 66.64
KY012 | 59.56 | 55.59
KY015 | 73.07 | 68.19
KY017 | 56.37 | 52.62
KY021 | 56.37 | 52.62
KY022 | 56.37 | 52.62
KY026 | 56.37 | 52.62
KY027 | 56.37 | 52.62
KY035 | 56.37 | 52.62
KY040 | 56.37 | 52.62
KY047 | 56.37 | 52.62
KY053 | 56.37 | 52.62
KY056 | 56.37 | 52.62
KY061 | 71.16 | 66.42
KY071 | 62.67 | 58.49
KY086 | 56.37 | 52.62
KY107 | 56.37 | 52.62
KY121 | 56.37 | 52.62
KY132 | 62.43 | 58.27
KY133 | 73.07 | 68.19
KY135 | 73.07 | 68.19
KY136 | 73.07 | 68.19
KY137 | 56.37 | 52.62
KY138 | 56.37 | 52.62
KY140 | 71.16 | 66.42
KY141 | 56.37 | 52.62
KY142 | 65.11 | 60.77
KY157 | 56.37 | 52.62
KY160 | 56.37 | 52.62
KY161 | 65.11 | 60.77
KY163 | 56.37 | 52.62
KY169 | 56.37 | 52.62
KY171 | 64.25 | 59.97
KY901 | 71.16 | 66.42
LA001 | 74.89 | 69.89
LA002 | 73.31 | 68.43
LA003 | 80.86 | 75.47
LA004 | 69.98 | 65.31
LA005 | 69.98 | 65.31
LA006 | 69.98 | 65.31
LA009 | 80.86 | 75.47
LA012 | 74.89 | 69.89
LA013 | 74.89 | 69.89
LA023 | 69.98 | 65.31
LA024 | 69.41 | 64.79
LA029 | 69.98 | 65.31
LA031 | 69.41 | 64.79
LA032 | 69.98 | 65.31
LA033 | 69.41 | 64.79
LA036 | 69.41 | 64.79
LA037 | 74.71 | 69.74
LA046 | 69.98 | 65.31
LA057 | 69.98 | 65.31
LA063 | 69.98 | 65.31
LA067 | 69.41 | 64.79
LA074 | 69.41 | 64.79
LA086 | 69.41 | 64.79
LA094 | 74.89 | 69.89
LA097 | 69.41 | 64.79
LA101 | 80.86 | 75.47
LA103 | 74.89 | 69.89
LA104 | 69.98 | 65.31
LA111 | 69.41 | 64.79
LA114 | 69.41 | 64.79
LA115 | 69.41 | 64.79
LA120 | 69.98 | 65.31
LA122 | 69.98 | 65.31
LA125 | 69.41 | 64.79
LA128 | 69.41 | 64.79
LA129 | 69.98 | 65.31
LA132 | 69.41 | 64.79
LA159 | 69.41 | 64.79
LA163 | 69.41 | 64.79
LA165 | 69.98 | 65.31
LA166 | 69.41 | 64.79
LA169 | 69.41 | 64.79
LA171 | 69.98 | 65.31
LA172 | 69.98 | 65.31
LA173 | 69.98 | 65.31
LA174 | 69.98 | 65.31
LA178 | 69.98 | 65.31
LA181 | 74.89 | 69.89
LA182 | 69.41 | 64.79
LA184 | 73.31 | 68.43
LA186 | 69.98 | 65.31
LA187 | 74.89 | 69.89
LA188 | 69.41 | 64.79
LA189 | 69.98 | 65.31
LA190 | 73.31 | 68.43
LA192 | 69.41 | 64.79
LA194 | 71.71 | 66.93
LA195 | 69.41 | 64.79
LA196 | 69.98 | 65.31
LA199 | 80.86 | 75.47
LA202 | 80.86 | 75.47
LA204 | 80.86 | 75.47
LA205 | 80.86 | 75.47
LA206 | 69.98 | 65.31
LA207 | 69.98 | 65.31
LA211 | 71.71 | 66.93
LA212 | 69.41 | 64.79
LA213 | 74.71 | 69.74
LA214 | 69.98 | 65.31
LA215 | 69.41 | 64.79
LA220 | 69.41 | 64.79
LA222 | 69.41 | 64.79
LA229 | 69.41 | 64.79
LA230 | 73.31 | 68.43
LA232 | 69.41 | 64.79
LA233 | 69.41 | 64.79
LA238 | 74.89 | 69.89
LA241 | 69.41 | 64.79
LA242 | 69.41 | 64.79
LA246 | 69.41 | 64.79
LA247 | 69.41 | 64.79
LA248 | 69.41 | 64.79
LA253 | 71.71 | 66.93
LA257 | 69.41 | 64.79
LA258 | 69.41 | 64.79
LA266 | 69.98 | 65.31
LA888 | 73.31 | 68.43
LA889 | 74.89 | 69.89
LA903 | 74.89 | 69.89
MA001 | 125.22 | 116.88
MA002 | 135.35 | 126.32
MA003 | 135.35 | 126.32
MA005 | 125.22 | 116.88
MA006 | 121.78 | 113.67
MA007 | 125.22 | 116.88
MA008 | 125.22 | 116.88
MA010 | 125.22 | 116.88
MA012 | 125.22 | 116.88
MA013 | 135.35 | 126.32
MA014 | 135.35 | 126.32
MA015 | 135.35 | 126.32
MA016 | 135.35 | 126.32
MA017 | 135.35 | 126.32
MA018 | 121.78 | 113.67
MA019 | 135.35 | 126.32
MA020 | 135.35 | 126.32
MA022 | 135.35 | 126.32
MA023 | 135.35 | 126.32
MA024 | 125.22 | 116.88
MA025 | 135.35 | 126.32
MA026 | 125.22 | 116.88
MA027 | 135.35 | 126.32
MA028 | 135.35 | 126.32
MA029 | 125.22 | 116.88
MA031 | 135.35 | 126.32
MA032 | 135.35 | 126.32
MA033 | 135.35 | 126.32
MA034 | 125.22 | 116.88
MA035 | 125.22 | 116.88
MA036 | 135.35 | 126.32
MA037 | 125.22 | 116.88
MA039 | 125.22 | 116.88
MA040 | 135.35 | 126.32
MA041 | 125.22 | 116.88
MA042 | 135.35 | 126.32
MA043 | 125.22 | 116.88
MA044 | 135.35 | 126.32
MA045 | 135.35 | 126.32
MA046 | 135.66 | 126.63
MA047 | 135.66 | 126.63
MA048 | 135.35 | 126.32
MA050 | 125.22 | 116.88
MA051 | 125.22 | 116.88
MA053 | 135.35 | 126.32
MA054 | 135.35 | 126.32
MA055 | 135.35 | 126.32
MA056 | 135.35 | 126.32
MA057 | 135.35 | 126.32
MA059 | 135.35 | 126.32
MA060 | 125.22 | 116.88
MA061 | 135.35 | 126.32
MA063 | 135.35 | 126.32
MA065 | 135.35 | 126.32
MA066 | 125.22 | 116.88
MA067 | 135.35 | 126.32
MA069 | 135.35 | 126.32
MA070 | 135.35 | 126.32
MA072 | 135.35 | 126.32
MA073 | 135.35 | 126.32
MA074 | 135.35 | 126.32
MA075 | 135.35 | 126.32
MA076 | 125.22 | 116.88
MA077 | 125.22 | 116.88
MA078 | 125.22 | 116.88
MA079 | 135.35 | 126.32
MA080 | 125.22 | 116.88
MA081 | 125.22 | 116.88
MA082 | 125.22 | 116.88
MA084 | 125.22 | 116.88
MA085 | 125.22 | 116.88
MA086 | 125.22 | 116.88
MA087 | 125.22 | 116.88
MA088 | 125.22 | 116.88
MA089 | 135.35 | 126.32
MA090 | 135.35 | 126.32
MA091 | 135.35 | 126.32
MA092 | 135.35 | 126.32
MA093 | 135.35 | 126.32
MA094 | 123.75 | 115.51
MA095 | 135.66 | 126.63
MA096 | 123.75 | 115.51
MA098 | 135.35 | 126.32
MA099 | 135.35 | 126.32
MA100 | 125.22 | 116.88
MA101 | 135.35 | 126.32
MA105 | 125.22 | 116.88
MA106 | 125.22 | 116.88
MA107 | 125.22 | 116.88
MA108 | 125.22 | 116.88
MA109 | 135.35 | 126.32
MA110 | 135.66 | 126.63
MA111 | 135.35 | 126.32
MA112 | 135.35 | 126.32
MA116 | 135.35 | 126.32
MA117 | 135.35 | 126.32
MA118 | 135.35 | 126.32
MA119 | 135.35 | 126.32
MA121 | 135.35 | 126.32
MA122 | 135.35 | 126.32
MA123 | 125.22 | 116.88
MA125 | 135.35 | 126.32
MA127 | 125.22 | 116.88
MA133 | 135.35 | 126.32
MA134 | 135.35 | 126.32
MA135 | 135.35 | 126.32
MA138 | 135.66 | 126.63
MA139 | 125.22 | 116.88
MA140 | 135.35 | 126.32
MA147 | 135.35 | 126.32
MA154 | 135.35 | 126.32
MA155 | 135.35 | 126.32
MA165 | 135.35 | 126.32
MA170 | 121.78 | 113.67
MA172 | 125.22 | 116.88
MA174 | 135.35 | 126.32
MA180 | 135.66 | 126.63
MA181 | 135.66 | 126.63
MA188 | 125.22 | 116.88
MA880 | 135.35 | 126.32
MA881 | 135.35 | 126.32
MA882 | 125.22 | 116.88
MA883 | 135.35 | 126.32
MA901 | 135.35 | 126.32
MD001 | 89.44 | 83.47
MD002 | 89.44 | 83.47
MD003 | 119.93 | 111.95
MD004 | 119.93 | 111.95
MD006 | 70.16 | 65.47
MD007 | 119.93 | 111.95
MD014 | 80.38 | 75.02
MD015 | 119.93 | 111.95
MD016 | 95.93 | 89.53
MD018 | 89.44 | 83.47
MD019 | 80.14 | 74.79
MD021 | 101.45 | 94.69
MD022 | 119.93 | 111.95
MD023 | 89.44 | 83.47
MD024 | 119.93 | 111.95
MD025 | 89.44 | 83.47
MD027 | 89.44 | 83.47
MD028 | 70.16 | 65.47
MD029 | 95.93 | 89.53
MD032 | 89.44 | 83.47
MD033 | 89.44 | 83.47
MD034 | 89.44 | 83.47
MD901 | 119.93 | 111.95
ME001 | 68.87 | 64.28
ME002 | 68.87 | 64.28
ME003 | 109.42 | 102.14
ME004 | 68.87 | 64.28
ME005 | 78.30 | 73.07
ME006 | 83.67 | 78.08
ME007 | 78.30 | 73.07
ME008 | 72.41 | 67.57
ME009 | 79.48 | 74.19
ME011 | 96.27 | 89.84
ME015 | 109.42 | 102.14
ME018 | 79.48 | 74.19
ME019 | 87.71 | 81.84
ME020 | 109.42 | 102.14
ME021 | 79.48 | 74.19
ME025 | 68.87 | 64.28
ME027 | 70.69 | 65.99
ME028 | 96.27 | 89.84
ME030 | 72.41 | 67.57
ME901 | 67.61 | 63.09
MI001 | 69.16 | 64.55
MI005 | 69.16 | 64.55
MI006 | 59.14 | 55.20
MI008 | 69.16 | 64.55
MI009 | 59.53 | 55.56
MI010 | 60.28 | 56.27
MI019 | 57.84 | 53.98
MI020 | 57.84 | 53.98
MI027 | 69.16 | 64.55
MI030 | 57.84 | 53.98
MI031 | 65.28 | 60.93
MI032 | 60.28 | 56.27
MI035 | 62.33 | 58.18
MI036 | 57.84 | 53.98
MI037 | 69.16 | 64.55
MI038 | 59.77 | 55.79
MI039 | 69.16 | 64.55
MI040 | 69.16 | 64.55
MI044 | 69.16 | 64.55
MI045 | 69.16 | 64.55
MI047 | 57.84 | 53.98
MI048 | 69.16 | 64.55
MI049 | 57.84 | 53.98
MI050 | 57.84 | 53.98
MI051 | 69.16 | 64.55
MI052 | 69.16 | 64.55
MI055 | 69.16 | 64.55
MI058 | 66.31 | 61.89
MI059 | 69.16 | 64.55
MI060 | 62.04 | 57.89
MI061 | 62.43 | 58.27
MI063 | 57.84 | 53.98
MI064 | 82.40 | 76.91
MI066 | 65.28 | 60.93
MI070 | 62.04 | 57.89
MI073 | 65.28 | 60.93
MI074 | 62.43 | 58.27
MI080 | 64.20 | 59.93
MI084 | 62.04 | 57.89
MI087 | 62.04 | 57.89
MI089 | 69.16 | 64.55
MI093 | 65.28 | 60.93
MI094 | 57.84 | 53.98
MI096 | 69.16 | 64.55
MI097 | 69.16 | 64.55
MI100 | 69.16 | 64.55
MI112 | 57.84 | 53.98
MI115 | 65.28 | 60.93
MI117 | 57.84 | 53.98
MI119 | 57.84 | 53.98
MI120 | 60.28 | 56.27
MI121 | 62.43 | 58.27
MI132 | 57.84 | 53.98
MI139 | 69.16 | 64.55
MI157 | 69.16 | 64.55
MI167 | 66.31 | 61.89
MI168 | 66.31 | 61.89
MI186 | 57.84 | 53.98
MI194 | 66.31 | 61.89
MI198 | 65.28 | 60.93
MI880 | 66.31 | 61.89
MI901 | 69.16 | 64.55
MN001 | 95.35 | 88.99
MN002 | 95.35 | 88.99
MN003 | 70.53 | 65.83
MN007 | 70.53 | 65.83
MN008 | 65.30 | 60.95
MN009 | 65.30 | 60.95
MN018 | 65.30 | 60.95
MN021 | 78.59 | 73.35
MN032 | 65.30 | 60.95
MN034 | 65.30 | 60.95
MN037 | 65.30 | 60.95
MN038 | 72.65 | 67.80
MN049 | 65.30 | 60.95
MN063 | 70.83 | 66.11
MN073 | 70.53 | 65.83
MN077 | 71.24 | 66.50
MN085 | 65.30 | 60.95
MN090 | 65.30 | 60.95
MN101 | 95.35 | 88.99
MN107 | 65.30 | 60.95
MN128 | 65.30 | 60.95
MN144 | 95.35 | 88.99
MN147 | 95.35 | 88.99
MN151 | 78.94 | 73.70
MN152 | 95.35 | 88.99
MN153 | 65.30 | 60.95
MN154 | 65.30 | 60.95
MN158 | 78.59 | 73.35
MN161 | 68.51 | 63.94
MN163 | 95.35 | 88.99
MN164 | 78.59 | 73.35
MN166 | 65.30 | 60.95
MN167 | 70.83 | 66.11
MN168 | 68.51 | 63.94
MN169 | 65.30 | 60.95
MN170 | 95.35 | 88.99
MN171 | 67.14 | 62.65
MN172 | 72.65 | 67.80
MN173 | 65.30 | 60.95
MN174 | 65.30 | 60.95
MN176 | 65.30 | 60.95
MN177 | 65.30 | 60.95
MN178 | 68.51 | 63.94
MN179 | 65.30 | 60.95
MN180 | 65.30 | 60.95
MN182 | 65.30 | 60.95
MN184 | 95.35 | 88.99
MN188 | 65.30 | 60.95
MN190 | 65.30 | 60.95
MN191 | 65.30 | 60.95
MN192 | 65.30 | 60.95
MN193 | 73.38 | 68.49
MN197 | 66.22 | 61.80
MN200 | 65.30 | 60.95
MN203 | 68.51 | 63.94
MN212 | 95.35 | 88.99
MN216 | 95.35 | 88.99
MN219 | 70.83 | 66.11
MN220 | 71.24 | 66.50
MN801 | 95.35 | 88.99
MN802 | 95.35 | 88.99
MO001 | 69.71 | 65.05
MO002 | 67.77 | 63.24
MO003 | 66.83 | 62.37
MO004 | 69.71 | 65.05
MO006 | 69.71 | 65.05
MO007 | 66.83 | 62.37
MO008 | 66.73 | 62.28
MO009 | 66.83 | 62.37
MO010 | 66.73 | 62.28
MO014 | 66.83 | 62.37
MO016 | 66.73 | 62.28
MO017 | 67.77 | 63.24
MO030 | 67.77 | 63.24
MO037 | 66.73 | 62.28
MO040 | 66.73 | 62.28
MO053 | 67.77 | 63.24
MO058 | 66.83 | 62.37
MO064 | 66.73 | 62.28
MO065 | 66.73 | 62.28
MO072 | 66.73 | 62.28
MO074 | 66.73 | 62.28
MO107 | 66.73 | 62.28
MO129 | 66.73 | 62.28
MO133 | 66.73 | 62.28
MO145 | 66.73 | 62.28
MO149 | 66.73 | 62.28
MO188 | 66.83 | 62.37
MO190 | 66.73 | 62.28
MO193 | 67.77 | 63.24
MO196 | 67.77 | 63.24
MO197 | 67.77 | 63.24
MO198 | 66.83 | 62.37
MO199 | 69.71 | 65.05
MO200 | 66.73 | 62.28
MO203 | 66.83 | 62.37
MO204 | 67.77 | 63.24
MO205 | 69.71 | 65.05
MO206 | 66.73 | 62.28
MO207 | 66.73 | 62.28
MO209 | 66.73 | 62.28
MO210 | 67.77 | 63.24
MO212 | 66.73 | 62.28
MO213 | 67.77 | 63.24
MO215 | 66.83 | 62.37
MO216 | 66.83 | 62.37
MO217 | 66.73 | 62.28
MO227 | 69.71 | 65.05
MS004 | 65.89 | 61.49
MS005 | 68.86 | 64.27
MS006 | 65.89 | 61.49
MS016 | 70.49 | 65.79
MS019 | 65.89 | 61.49
MS030 | 65.89 | 61.49
MS040 | 68.86 | 64.27
MS057 | 65.89 | 61.49
MS058 | 81.26 | 75.84
MS095 | 65.89 | 61.49
MS103 | 81.26 | 75.84
MS107 | 65.89 | 61.49
MS128 | 65.89 | 61.49
MS301 | 68.86 | 64.27
MT001 | 91.81 | 85.69
MT002 | 81.28 | 75.87
MT003 | 75.77 | 70.71
MT004 | 88.10 | 82.23
MT006 | 71.38 | 66.63
MT015 | 77.33 | 72.17
MT033 | 82.64 | 77.12
MT036 | 77.33 | 72.17
MT901 | 91.81 | 85.69
NC001 | 69.85 | 65.19
NC002 | 83.45 | 77.88
NC003 | 76.53 | 71.42
NC004 | 66.17 | 61.76
NC006 | 72.29 | 67.48
NC007 | 69.85 | 65.19
NC008 | 76.53 | 71.42
NC009 | 71.00 | 66.26
NC011 | 72.29 | 67.48
NC012 | 72.29 | 67.48
NC013 | 83.45 | 77.88
NC014 | 66.17 | 61.76
NC015 | 69.85 | 65.19
NC018 | 66.17 | 61.76
NC019 | 69.85 | 65.19
NC020 | 66.17 | 61.76
NC021 | 83.45 | 77.88
NC022 | 69.85 | 65.19
NC025 | 66.17 | 61.76
NC032 | 66.17 | 61.76
NC035 | 66.79 | 62.33
NC039 | 68.76 | 64.19
NC050 | 69.56 | 64.92
NC056 | 73.59 | 68.70
NC057 | 76.53 | 71.42
NC059 | 72.29 | 67.48
NC065 | 76.53 | 71.42
NC070 | 72.80 | 67.94
NC071 | 68.76 | 64.19
NC072 | 72.49 | 67.67
NC075 | 66.17 | 61.76
NC077 | 66.17 | 61.76
NC081 | 72.29 | 67.48
NC087 | 69.85 | 65.19
NC089 | 66.17 | 61.76
NC098 | 69.85 | 65.19
NC102 | 72.80 | 67.94
NC104 | 83.45 | 77.88
NC118 | 66.17 | 61.76
NC120 | 83.45 | 77.88
NC134 | 72.80 | 67.94
NC137 | 69.85 | 65.19
NC138 | 66.17 | 61.76
NC139 | 66.17 | 61.76
NC140 | 69.85 | 65.19
NC141 | 66.17 | 61.76
NC144 | 69.85 | 65.19
NC145 | 66.17 | 61.76
NC146 | 66.17 | 61.76
NC147 | 69.85 | 65.19
NC149 | 66.17 | 61.76
NC150 | 66.17 | 61.76
NC151 | 66.58 | 62.14
NC152 | 69.85 | 65.19
NC155 | 66.17 | 61.76
NC159 | 73.59 | 68.70
NC160 | 66.17 | 61.76
NC161 | 66.17 | 61.76
NC163 | 69.56 | 64.92
NC164 | 83.45 | 77.88
NC165 | 66.17 | 61.76
NC166 | 72.29 | 67.48
NC167 | 67.40 | 62.91
NC173 | 69.85 | 65.19
NC175 | 69.85 | 65.19
NC901 | 66.17 | 61.76
ND001 | 78.59 | 73.35
ND002 | 78.59 | 73.35
ND003 | 78.59 | 73.35
ND009 | 78.59 | 73.35
ND010 | 78.59 | 73.35
ND011 | 78.59 | 73.35
ND012 | 78.59 | 73.35
ND013 | 78.59 | 73.35
ND014 | 78.59 | 73.35
ND015 | 78.59 | 73.35
ND016 | 78.59 | 73.35
ND017 | 78.59 | 73.35
ND019 | 78.59 | 73.35
ND021 | 78.59 | 73.35
ND022 | 78.59 | 73.35
ND025 | 78.59 | 73.35
ND026 | 78.59 | 73.35
ND030 | 78.59 | 73.35
ND031 | 78.59 | 73.35
ND035 | 78.59 | 73.35
ND036 | 78.59 | 73.35
ND037 | 78.59 | 73.35
ND038 | 78.59 | 73.35
ND039 | 78.59 | 73.35
ND044 | 78.59 | 73.35
ND049 | 78.59 | 73.35
ND052 | 78.59 | 73.35
ND054 | 78.59 | 73.35
ND055 | 78.59 | 73.35
ND070 | 78.59 | 73.35
ND901 | 78.59 | 73.35
NE001 | 73.28 | 68.40
NE002 | 72.92 | 68.05
NE003 | 72.92 | 68.05
NE004 | 72.45 | 67.62
NE010 | 72.45 | 67.62
NE041 | 72.45 | 67.62
NE078 | 72.45 | 67.62
NE083 | 72.45 | 67.62
NE094 | 72.45 | 67.62
NE100 | 72.45 | 67.62
NE104 | 72.45 | 67.62
NE114 | 72.45 | 67.62
NE120 | 72.45 | 67.62
NE123 | 72.45 | 67.62
NE141 | 72.45 | 67.62
NE150 | 72.45 | 67.62
NE153 | 73.28 | 68.40
NE157 | 72.45 | 67.62
NE174 | 73.28 | 68.40
NE175 | 72.49 | 67.66
NE179 | 72.45 | 67.62
NE181 | 72.45 | 67.62
NE182 | 72.45 | 67.62
NH001 | 96.70 | 90.25
NH002 | 102.74 | 95.88
NH003 | 100.13 | 93.46
NH004 | 100.13 | 93.46
NH005 | 110.38 | 103.01
NH006 | 100.13 | 93.46
NH007 | 86.94 | 81.14
NH008 | 100.13 | 93.46
NH009 | 89.75 | 83.76
NH010 | 103.15 | 96.27
NH011 | 79.12 | 73.85
NH012 | 84.29 | 78.67
NH013 | 100.13 | 93.46
NH014 | 100.13 | 93.46
NH015 | 79.12 | 73.85
NH016 | 79.12 | 73.85
NH022 | 125.22 | 116.88
NH888 | 102.74 | 95.88
NH901 | 102.74 | 95.88
NJ002 | 113.83 | 106.22
NJ003 | 113.83 | 106.22
NJ004 | 97.15 | 90.67
NJ006 | 116.57 | 108.80
NJ007 | 114.11 | 106.50
NJ008 | 114.11 | 106.50
NJ009 | 97.15 | 90.67
NJ010 | 95.93 | 89.53
NJ011 | 116.57 | 108.80
NJ012 | 97.15 | 90.67
NJ013 | 116.57 | 108.80
NJ014 | 96.25 | 89.85
NJ015 | 97.15 | 90.67
NJ021 | 116.57 | 108.80
NJ022 | 116.57 | 108.80
NJ023 | 113.83 | 106.22
NJ025 | 113.83 | 106.22
NJ026 | 97.15 | 90.67
NJ030 | 97.15 | 90.67
NJ032 | 113.83 | 106.22
NJ033 | 116.57 | 108.80
NJ035 | 116.57 | 108.80
NJ036 | 97.15 | 90.67
NJ037 | 113.83 | 106.22
NJ039 | 113.83 | 106.22
NJ042 | 116.57 | 108.80
NJ043 | 116.57 | 108.80
NJ044 | 116.57 | 108.80
NJ046 | 114.11 | 106.50
NJ047 | 116.57 | 108.80
NJ048 | 114.11 | 106.50
NJ049 | 92.53 | 86.36
NJ050 | 113.83 | 106.22
NJ051 | 95.93 | 89.53
NJ052 | 113.83 | 106.22
NJ054 | 114.11 | 106.50
NJ055 | 116.57 | 108.80
NJ056 | 114.11 | 106.50
NJ058 | 95.93 | 89.53
NJ059 | 96.25 | 89.85
NJ060 | 114.11 | 106.50
NJ061 | 92.53 | 86.36
NJ063 | 92.53 | 86.36
NJ065 | 114.11 | 106.50
NJ066 | 113.83 | 106.22
NJ067 | 116.57 | 108.80
NJ068 | 113.83 | 106.22
NJ070 | 116.57 | 108.80
NJ071 | 116.57 | 108.80
NJ073 | 95.93 | 89.53
NJ074 | 95.93 | 89.53
NJ075 | 116.57 | 108.80
NJ077 | 97.15 | 90.67
NJ081 | 114.11 | 106.50
NJ083 | 97.15 | 90.67
NJ084 | 116.57 | 108.80
NJ086 | 113.83 | 106.22
NJ088 | 113.83 | 106.22
NJ089 | 116.57 | 108.80
NJ090 | 116.57 | 108.80
NJ092 | 113.83 | 106.22
NJ095 | 114.11 | 106.50
NJ097 | 116.57 | 108.80
NJ099 | 113.83 | 106.22
NJ102 | 113.83 | 106.22
NJ105 | 113.83 | 106.22
NJ106 | 116.57 | 108.80
NJ108 | 113.83 | 106.22
NJ109 | 113.83 | 106.22
NJ110 | 116.57 | 108.80
NJ112 | 116.57 | 108.80
NJ113 | 113.83 | 106.22
NJ114 | 116.57 | 108.80
NJ118 | 95.93 | 89.53
NJ204 | 95.93 | 89.53
NJ212 | 111.83 | 104.38
NJ214 | 114.11 | 106.50
NJ880 | 114.11 | 106.50
NJ881 | 116.57 | 108.80
NJ882 | 113.83 | 106.22
NJ912 | 113.83 | 106.22
NM001 | 84.81 | 79.16
NM002 | 64.88 | 60.56
NM003 | 67.31 | 62.82
NM006 | 83.84 | 78.24
NM009 | 100.37 | 93.67
NM020 | 65.65 | 61.27
NM033 | 64.88 | 60.56
NM039 | 64.88 | 60.56
NM050 | 100.37 | 93.67
NM057 | 84.81 | 79.16
NM061 | 64.88 | 60.56
NM063 | 65.65 | 61.27
NM066 | 83.47 | 77.89
NM067 | 64.88 | 60.56
NM077 | 84.81 | 79.16
NM088 | 69.19 | 64.58
NV001 | 85.95 | 80.22
NV018 | 96.55 | 90.12
NV905 | 85.95 | 80.22
NY001 | 84.60 | 78.97
NY002 | 79.08 | 73.82
NY003 | 131.70 | 122.93
NY005 | 114.48 | 106.84
NY006 | 77.46 | 72.30
NY009 | 91.94 | 85.81
NY012 | 91.94 | 85.81
NY015 | 91.94 | 85.81
NY016 | 80.23 | 74.88
NY017 | 64.64 | 60.33
NY018 | 68.53 | 63.96
NY019 | 77.46 | 72.30
NY020 | 91.94 | 85.81
NY021 | 74.63 | 69.66
NY022 | 91.94 | 85.81
NY023 | 131.70 | 122.93
NY025 | 91.94 | 85.81
NY027 | 84.60 | 78.97
NY028 | 91.94 | 85.81
NY033 | 91.94 | 85.81
NY034 | 77.46 | 72.30
NY035 | 131.70 | 122.93
NY038 | 131.70 | 122.93
NY041 | 96.79 | 90.34
NY042 | 131.70 | 122.93
NY044 | 96.79 | 90.34
NY045 | 103.55 | 96.64
NY048 | 61.31 | 57.23
NY049 | 117.67 | 109.83
NY050 | 131.70 | 122.93
NY051 | 117.67 | 109.83
NY054 | 90.43 | 84.41
NY057 | 131.70 | 122.93
NY059 | 77.46 | 72.30
NY060 | 78.53 | 73.30
NY061 | 70.78 | 66.07
NY062 | 117.67 | 109.83
NY065 | 71.71 | 66.94
NY066 | 72.26 | 67.46
NY067 | 68.40 | 63.83
NY068 | 67.01 | 62.54
NY070 | 79.08 | 73.82
NY071 | 80.13 | 74.78
NY077 | 131.70 | 122.93
NY079 | 87.05 | 81.25
NY084 | 114.48 | 106.84
NY085 | 131.70 | 122.93
NY086 | 131.70 | 122.93
NY087 | 65.90 | 61.50
NY088 | 131.70 | 122.93
NY089 | 96.79 | 90.34
NY091 | 79.08 | 73.82
NY094 | 131.70 | 122.93
NY098 | 77.46 | 72.30
NY102 | 84.60 | 78.97
NY103 | 103.55 | 96.64
NY107 | 84.60 | 78.97
NY109 | 77.46 | 72.30
NY110 | 114.48 | 106.84
NY113 | 131.70 | 122.93
NY114 | 114.48 | 106.84
NY117 | 131.70 | 122.93
NY121 | 131.70 | 122.93
NY123 | 131.70 | 122.93
NY125 | 117.67 | 109.83
NY127 | 131.70 | 122.93
NY128 | 131.70 | 122.93
NY130 | 131.70 | 122.93
NY132 | 131.70 | 122.93
NY134 | 117.67 | 109.83
NY137 | 117.67 | 109.83
NY138 | 114.48 | 106.84
NY141 | 131.70 | 122.93
NY146 | 131.70 | 122.93
NY147 | 131.70 | 122.93
NY148 | 114.48 | 106.84
NY149 | 131.70 | 122.93
NY152 | 131.70 | 122.93
NY154 | 131.70 | 122.93
NY158 | 117.67 | 109.83
NY159 | 131.70 | 122.93
NY160 | 114.48 | 106.84
NY165 | 131.70 | 122.93
NY402 | 81.70 | 76.24
NY403 | 61.04 | 56.97
NY404 | 79.08 | 73.82
NY405 | 79.08 | 73.82
NY406 | 96.79 | 90.34
NY408 | 91.94 | 85.81
NY409 | 79.08 | 73.82
NY413 | 78.53 | 73.30
NY416 | 91.94 | 85.81
NY417 | 77.46 | 72.30
NY421 | 91.94 | 85.81
NY422 | 91.94 | 85.81
NY424 | 91.94 | 85.81
NY427 | 91.94 | 85.81
NY428 | 91.94 | 85.81
NY430 | 91.94 | 85.81
NY431 | 91.94 | 85.81
NY433 | 61.31 | 57.23
NY443 | 77.46 | 72.30
NY447 | 91.94 | 85.81
NY449 | 79.08 | 73.82
NY501 | 91.94 | 85.81
NY503 | 91.94 | 85.81
NY504 | 84.60 | 78.97
NY505 | 80.23 | 74.88
NY512 | 91.94 | 85.81
NY513 | 91.94 | 85.81
NY516 | 91.94 | 85.81
NY519 | 91.94 | 85.81
NY521 | 84.60 | 78.97
NY527 | 84.60 | 78.97
NY529 | 103.55 | 96.64
NY530 | 78.53 | 73.30
NY532 | 91.94 | 85.81
NY534 | 77.46 | 72.30
NY535 | 91.94 | 85.81
NY538 | 91.94 | 85.81
NY541 | 67.01 | 62.54
NY552 | 77.46 | 72.30
NY557 | 91.94 | 85.81
NY561 | 91.94 | 85.81
NY562 | 91.94 | 85.81
NY564 | 91.94 | 85.81
NY630 | 91.94 | 85.81
NY888 | 131.70 | 122.93
NY889 | 64.64 | 60.33
NY891 | 131.70 | 122.93
NY895 | 131.70 | 122.93
NY904 | 114.48 | 106.84
NY912 | 79.08 | 73.82
OH001 | 71.57 | 66.79
OH002 | 65.00 | 60.66
OH003 | 75.46 | 70.42
OH004 | 73.07 | 68.19
OH005 | 66.65 | 62.21
OH006 | 75.00 | 70.00
OH007 | 74.22 | 69.28
OH008 | 65.00 | 60.66
OH009 | 62.74 | 58.56
OH010 | 62.74 | 58.56
OH012 | 75.46 | 70.42
OH014 | 65.44 | 61.07
OH015 | 73.07 | 68.19
OH016 | 63.94 | 59.68
OH018 | 63.94 | 59.68
OH019 | 65.11 | 60.77
OH020 | 63.71 | 59.46
OH021 | 66.65 | 62.21
OH022 | 66.65 | 62.21
OH024 | 62.74 | 58.56
OH025 | 75.46 | 70.42
OH026 | 63.78 | 59.52
OH027 | 75.46 | 70.42
OH028 | 66.81 | 62.36
OH029 | 74.04 | 69.09
OH030 | 62.74 | 58.56
OH031 | 74.22 | 69.28
OH032 | 62.74 | 58.56
OH033 | 62.74 | 58.56
OH034 | 62.74 | 58.56
OH035 | 62.74 | 58.56
OH036 | 63.03 | 58.83
OH037 | 62.74 | 58.56
OH038 | 73.07 | 68.19
OH039 | 62.74 | 58.56
OH040 | 62.74 | 58.56
OH041 | 62.74 | 58.56
OH042 | 75.46 | 70.42
OH043 | 71.57 | 66.79
OH044 | 65.00 | 60.66
OH045 | 62.74 | 58.56
OH046 | 62.74 | 58.56
OH047 | 62.74 | 58.56
OH049 | 73.07 | 68.19
OH050 | 62.74 | 58.56
OH053 | 62.74 | 58.56
OH054 | 65.38 | 61.02
OH056 | 62.74 | 58.56
OH058 | 62.74 | 58.56
OH059 | 71.57 | 66.79
OH060 | 62.74 | 58.56
OH061 | 64.19 | 59.91
OH062 | 66.65 | 62.21
OH063 | 62.74 | 58.56
OH066 | 62.74 | 58.56
OH067 | 62.74 | 58.56
OH069 | 62.74 | 58.56
OH070 | 71.57 | 66.79
OH071 | 75.00 | 70.00
OH072 | 62.74 | 58.56
OH073 | 75.46 | 70.42
OH074 | 64.50 | 60.20
OH075 | 62.74 | 58.56
OH076 | 62.74 | 58.56
OH077 | 62.74 | 58.56
OH078 | 62.74 | 58.56
OH079 | 71.57 | 66.79
OH080 | 64.27 | 59.98
OH081 | 63.94 | 59.68
OH082 | 62.90 | 58.69
OH083 | 71.57 | 66.79
OH085 | 75.00 | 70.00
OH086 | 62.74 | 58.56
OH882 | 75.46 | 70.42
OK002 | 70.47 | 65.77
OK005 | 68.54 | 63.97
OK006 | 67.37 | 62.88
OK024 | 67.37 | 62.88
OK027 | 67.37 | 62.88
OK032 | 67.37 | 62.88
OK033 | 68.54 | 63.97
OK044 | 67.37 | 62.88
OK062 | 67.37 | 62.88
OK067 | 67.37 | 62.88
OK073 | 68.54 | 63.97
OK095 | 69.26 | 64.64
OK096 | 67.37 | 62.88
OK099 | 67.37 | 62.88
OK111 | 67.37 | 62.88
OK118 | 67.37 | 62.88
OK139 | 70.47 | 65.77
OK142 | 68.54 | 63.97
OK146 | 67.37 | 62.88
OK148 | 69.26 | 64.64
OK901 | 70.47 | 65.77
OR001 | 91.00 | 84.92
OR002 | 91.00 | 84.92
OR003 | 91.08 | 85.02
OR005 | 84.77 | 79.13
OR006 | 104.58 | 97.60
OR007 | 87.15 | 81.34
OR008 | 97.70 | 91.18
OR011 | 97.70 | 91.18
OR014 | 97.70 | 91.18
OR015 | 103.89 | 96.96
OR016 | 91.00 | 84.92
OR017 | 83.19 | 77.65
OR019 | 92.38 | 86.21
OR020 | 91.08 | 85.02
OR022 | 91.00 | 84.92
OR026 | 92.20 | 86.05
OR027 | 83.19 | 77.65
OR028 | 91.00 | 84.92
OR031 | 94.65 | 88.35
OR032 | 87.15 | 81.34
OR034 | 100.45 | 93.75
PA001 | 66.95 | 62.48
PA002 | 95.93 | 89.53
PA003 | 64.90 | 60.57
PA004 | 81.70 | 76.24
PA005 | 66.95 | 62.48
PA006 | 66.95 | 62.48
PA007 | 95.93 | 89.53
PA008 | 83.61 | 78.04
PA009 | 79.67 | 74.35
PA010 | 66.95 | 62.48
PA011 | 81.70 | 76.24
PA012 | 95.93 | 89.53
PA013 | 81.27 | 75.85
PA014 | 66.95 | 62.48
PA015 | 66.95 | 62.48
PA016 | 72.95 | 68.09
PA017 | 66.95 | 62.48
PA018 | 66.95 | 62.48
PA019 | 68.70 | 64.12
PA020 | 75.42 | 70.40
PA021 | 68.70 | 64.12
PA022 | 76.75 | 71.62
PA023 | 95.93 | 89.53
PA024 | 81.70 | 76.24
PA026 | 66.98 | 62.51
PA027 | 63.48 | 59.24
PA028 | 87.13 | 81.33
PA029 | 68.58 | 64.00
PA030 | 64.90 | 60.57
PA031 | 70.75 | 66.03
PA032 | 68.28 | 63.72
PA033 | 66.98 | 62.51
PA034 | 73.00 | 68.12
PA035 | 83.61 | 78.04
PA036 | 84.92 | 79.26
PA037 | 72.95 | 68.09
PA038 | 64.90 | 60.57
PA039 | 78.64 | 73.40
PA040 | 65.52 | 61.14
PA041 | 66.83 | 62.37
PA042 | 64.90 | 60.57
PA043 | 64.90 | 60.57
PA044 | 64.90 | 60.57
PA045 | 67.56 | 63.05
PA046 | 95.93 | 89.53
PA047 | 64.90 | 60.57
PA048 | 78.50 | 73.26
PA050 | 65.21 | 60.87
PA051 | 95.93 | 89.53
PA052 | 83.61 | 78.04
PA053 | 67.56 | 63.05
PA054 | 66.11 | 61.69
PA055 | 67.56 | 63.05
PA056 | 64.65 | 60.33
PA057 | 64.90 | 60.57
PA058 | 66.98 | 62.51
PA059 | 64.65 | 60.33
PA060 | 67.56 | 63.05
PA061 | 67.56 | 63.05
PA063 | 67.56 | 63.05
PA064 | 65.21 | 60.87
PA065 | 67.56 | 63.05
PA067 | 81.70 | 76.24
PA068 | 65.21 | 60.87
PA069 | 70.75 | 66.03
PA071 | 79.67 | 74.35
PA073 | 64.90 | 60.57
PA074 | 65.21 | 60.87
PA075 | 83.61 | 78.04
PA076 | 81.70 | 76.24
PA077 | 66.11 | 61.69
PA078 | 105.91 | 98.85
PA079 | 66.98 | 62.51
PA080 | 66.11 | 61.69
PA081 | 81.70 | 76.24
PA082 | 76.45 | 71.36
PA083 | 65.47 | 61.10
PA085 | 63.48 | 59.24
PA086 | 64.65 | 60.33
PA087 | 81.27 | 75.85
PA088 | 91.07 | 84.99
PA090 | 84.92 | 79.26
PA091 | 77.42 | 72.25
PA092 | 65.37 | 61.01
RI001 | 121.78 | 113.67
RI002 | 121.78 | 113.67
RI003 | 121.78 | 113.67
RI004 | 121.78 | 113.67
RI005 | 114.43 | 106.79
RI006 | 121.78 | 113.67
RI007 | 121.78 | 113.67
RI008 | 104.16 | 97.21
RI009 | 121.78 | 113.67
RI010 | 121.78 | 113.67
RI011 | 121.78 | 113.67
RI012 | 121.78 | 113.67
RI014 | 121.78 | 113.67
RI015 | 121.78 | 113.67
RI016 | 121.78 | 113.67
RI017 | 121.78 | 113.67
RI018 | 121.78 | 113.67
RI019 | 121.78 | 113.67
RI020 | 121.78 | 113.67
RI022 | 121.78 | 113.67
RI024 | 121.78 | 113.67
RI026 | 121.78 | 113.67
RI027 | 121.78 | 113.67
RI028 | 121.78 | 113.67
RI029 | 121.78 | 113.67
RI901 | 121.78 | 113.67
RQ005 | 79.99 | 74.65
RQ006 | 79.99 | 74.65
RQ007 | 74.42 | 69.46
RQ008 | 79.99 | 74.65
RQ009 | 74.42 | 69.46
RQ010 | 74.42 | 69.46
RQ011 | 79.99 | 74.65
RQ012 | 74.42 | 69.46
RQ013 | 79.99 | 74.65
RQ014 | 79.99 | 74.65
RQ015 | 79.99 | 74.65
RQ016 | 79.99 | 74.65
RQ017 | 74.42 | 69.46
RQ018 | 74.42 | 69.46
RQ019 | 79.99 | 74.65
RQ020 | 81.73 | 76.28
RQ021 | 79.99 | 74.65
RQ022 | 79.99 | 74.65
RQ023 | 79.99 | 74.65
RQ024 | 79.99 | 74.65
RQ025 | 79.99 | 74.65
RQ026 | 74.42 | 69.46
RQ027 | 79.99 | 74.65
RQ028 | 79.99 | 74.65
RQ029 | 74.42 | 69.46
RQ030 | 74.42 | 69.46
RQ031 | 74.42 | 69.46
RQ032 | 79.99 | 74.65
RQ033 | 74.42 | 69.46
RQ034 | 79.99 | 74.65
RQ035 | 74.42 | 69.46
RQ036 | 79.99 | 74.65
RQ037 | 74.42 | 69.46
RQ038 | 79.99 | 74.65
RQ039 | 81.73 | 76.28
RQ040 | 81.73 | 76.28
RQ041 | 74.42 | 69.46
RQ042 | 74.42 | 69.46
RQ043 | 74.42 | 69.46
RQ044 | 79.99 | 74.65
RQ045 | 79.99 | 74.65
RQ046 | 74.42 | 69.46
RQ047 | 79.99 | 74.65
RQ048 | 74.42 | 69.46
RQ049 | 79.99 | 74.65
RQ050 | 79.99 | 74.65
RQ052 | 74.42 | 69.46
RQ053 | 79.99 | 74.65
RQ054 | 79.99 | 74.65
RQ055 | 74.42 | 69.46
RQ056 | 79.99 | 74.65
RQ057 | 74.42 | 69.46
RQ058 | 74.42 | 69.46
RQ059 | 74.42 | 69.46
RQ060 | 74.42 | 69.46
RQ061 | 74.42 | 69.46
RQ062 | 74.42 | 69.46
RQ063 | 79.99 | 74.65
RQ064 | 79.99 | 74.65
RQ065 | 74.42 | 69.46
RQ066 | 74.42 | 69.46
RQ067 | 74.42 | 69.46
RQ068 | 74.42 | 69.46
RQ069 | 74.42 | 69.46
RQ070 | 79.99 | 74.65
RQ071 | 74.42 | 69.46
RQ072 | 79.99 | 74.65
RQ073 | 74.42 | 69.46
RQ074 | 74.42 | 69.46
RQ075 | 79.99 | 74.65
RQ077 | 79.99 | 74.65
RQ080 | 74.42 | 69.46
RQ081 | 79.99 | 74.65
RQ082 | 79.99 | 74.65
RQ083 | 79.99 | 74.65
SC001 | 74.99 | 69.99
SC002 | 75.80 | 70.74
SC003 | 69.19 | 64.58
SC004 | 69.19 | 64.58
SC005 | 69.19 | 64.58
SC007 | 73.06 | 68.19
SC008 | 69.19 | 64.58
SC015 | 66.75 | 62.30
SC016 | 69.19 | 64.58
SC018 | 69.19 | 64.58
SC019 | 69.19 | 64.58
SC020 | 69.19 | 64.58
SC021 | 66.75 | 62.30
SC022 | 76.53 | 71.42
SC023 | 69.19 | 64.58
SC024 | 74.99 | 69.99
SC025 | 69.19 | 64.58
SC026 | 70.61 | 65.89
SC027 | 69.19 | 64.58
SC028 | 66.75 | 62.30
SC029 | 69.19 | 64.58
SC030 | 66.75 | 62.30
SC031 | 66.75 | 62.30
SC032 | 69.19 | 64.58
SC033 | 66.75 | 62.30
SC034 | 69.19 | 64.58
SC035 | 66.75 | 62.30
SC036 | 76.53 | 71.42
SC037 | 69.19 | 64.58
SC046 | 76.53 | 71.42
SC056 | 74.99 | 69.99
SC057 | 74.99 | 69.99
SC059 | 66.75 | 62.30
SC911 | 75.80 | 70.74
SD010 | 70.38 | 65.68
SD011 | 70.12 | 65.45
SD014 | 70.12 | 65.45
SD016 | 70.38 | 65.68
SD021 | 70.12 | 65.45
SD026 | 70.12 | 65.45
SD034 | 70.12 | 65.45
SD035 | 76.19 | 71.10
SD036 | 70.12 | 65.45
SD037 | 70.12 | 65.45
SD039 | 70.38 | 65.68
SD043 | 70.12 | 65.45
SD045 | 70.12 | 65.45
SD047 | 70.12 | 65.45
SD048 | 70.12 | 65.45
SD055 | 70.12 | 65.45
SD056 | 70.12 | 65.45
SD057 | 70.12 | 65.45
SD058 | 70.12 | 65.45
SD059 | 70.12 | 65.45
TN001 | 70.49 | 65.79
TN002 | 65.82 | 61.43
TN003 | 65.82 | 61.43
TN004 | 71.45 | 66.69
TN005 | 78.12 | 72.91
TN006 | 65.82 | 61.43
TN007 | 65.82 | 61.43
TN012 | 65.82 | 61.43
TN013 | 65.82 | 61.43
TN020 | 78.12 | 72.91
TN024 | 65.82 | 61.43
TN026 | 65.82 | 61.43
TN035 | 78.12 | 72.91
TN038 | 65.82 | 61.43
TN042 | 65.82 | 61.43
TN054 | 65.82 | 61.43
TN062 | 65.82 | 61.43
TN065 | 65.82 | 61.43
TN066 | 65.82 | 61.43
TN076 | 65.82 | 61.43
TN079 | 78.12 | 72.91
TN088 | 65.82 | 61.43
TN113 | 65.82 | 61.43
TN117 | 71.45 | 66.69
TN903 | 78.12 | 72.91
TQ901 | 122.03 | 113.90
TX001 | 87.93 | 82.08
TX003 | 74.71 | 69.72
TX004 | 84.01 | 78.41
TX005 | 79.76 | 74.45
TX006 | 77.30 | 72.16
TX007 | 68.54 | 63.97
TX008 | 78.81 | 73.55
TX009 | 90.16 | 84.16
TX010 | 67.59 | 63.08
TX011 | 67.59 | 63.08
TX012 | 79.76 | 74.45
TX014 | 67.59 | 63.08
TX016 | 64.91 | 60.58
TX017 | 79.76 | 74.45
TX018 | 67.59 | 63.08
TX019 | 64.91 | 60.58
TX021 | 64.91 | 60.58
TX023 | 77.23 | 72.08
TX025 | 68.54 | 63.97
TX027 | 90.16 | 84.16
TX028 | 67.76 | 63.23
TX029 | 67.76 | 63.23
TX030 | 67.59 | 63.08
TX031 | 87.93 | 82.08
TX032 | 79.76 | 74.45
TX034 | 77.23 | 72.08
TX035 | 65.07 | 60.72
TX037 | 77.23 | 72.08
TX039 | 64.91 | 60.58
TX042 | 64.91 | 60.58
TX044 | 64.91 | 60.58
TX046 | 67.76 | 63.23
TX048 | 64.91 | 60.58
TX049 | 64.91 | 60.58
TX051 | 67.76 | 63.23
TX062 | 67.76 | 63.23
TX064 | 67.76 | 63.23
TX065 | 68.54 | 63.97
TX072 | 64.91 | 60.58
TX073 | 67.76 | 63.23
TX075 | 64.91 | 60.58
TX079 | 67.59 | 63.08
TX085 | 93.66 | 87.40
TX087 | 87.93 | 82.08
TX095 | 90.16 | 84.16
TX096 | 64.91 | 60.58
TX105 | 64.91 | 60.58
TX111 | 69.17 | 64.56
TX114 | 64.91 | 60.58
TX128 | 90.16 | 84.16
TX134 | 64.91 | 60.58
TX137 | 67.59 | 63.08
TX147 | 64.91 | 60.58
TX152 | 64.91 | 60.58
TX158 | 67.59 | 63.08
TX163 | 78.81 | 73.55
TX164 | 78.81 | 73.55
TX173 | 68.54 | 63.97
TX174 | 78.81 | 73.55
TX175 | 64.91 | 60.58
TX177 | 67.76 | 63.23
TX178 | 64.91 | 60.58
TX183 | 64.91 | 60.58
TX189 | 64.91 | 60.58
TX193 | 77.30 | 72.16
TX197 | 67.59 | 63.08
TX201 | 64.91 | 60.58
TX202 | 67.76 | 63.23
TX206 | 68.54 | 63.97
TX208 | 67.59 | 63.08
TX210 | 67.59 | 63.08
TX217 | 64.91 | 60.58
TX224 | 67.76 | 63.23
TX236 | 67.59 | 63.08
TX242 | 64.91 | 60.58
TX257 | 67.59 | 63.08
TX259 | 87.93 | 82.08
TX264 | 87.93 | 82.08
TX266 | 87.93 | 82.08
TX272 | 64.91 | 60.58
TX284 | 64.91 | 60.58
TX298 | 64.91 | 60.58
TX300 | 64.91 | 60.58
TX302 | 78.81 | 73.55
TX303 | 77.30 | 72.16
TX309 | 64.91 | 60.58
TX313 | 78.81 | 73.55
TX322 | 87.93 | 82.08
TX327 | 67.59 | 63.08
TX330 | 64.91 | 60.58
TX332 | 64.91 | 60.58
TX335 | 64.91 | 60.58
TX341 | 75.80 | 70.75
TX343 | 77.30 | 72.16
TX349 | 84.01 | 78.41
TX350 | 77.30 | 72.16
TX358 | 64.91 | 60.58
TX372 | 64.91 | 60.58
TX376 | 64.91 | 60.58
TX377 | 87.93 | 82.08
TX378 | 65.07 | 60.72
TX381 | 64.91 | 60.58
TX392 | 90.16 | 84.16
TX395 | 67.06 | 62.59
TX396 | 64.91 | 60.58
TX397 | 64.91 | 60.58
TX421 | 64.91 | 60.58
TX431 | 84.01 | 78.41
TX432 | 74.71 | 69.72
TX433 | 84.01 | 78.41
TX434 | 90.16 | 84.16
TX435 | 90.16 | 84.16
TX436 | 90.16 | 84.16
TX439 | 74.71 | 69.72
TX440 | 79.76 | 74.45
TX441 | 79.76 | 74.45
TX444 | 67.59 | 63.08
TX445 | 67.76 | 63.23
TX447 | 67.76 | 63.23
TX448 | 67.76 | 63.23
TX449 | 64.91 | 60.58
TX452 | 77.30 | 72.16
TX454 | 64.91 | 60.58
TX455 | 86.86 | 81.07
TX456 | 77.07 | 71.93
TX457 | 72.79 | 67.94
TX458 | 67.59 | 63.08
TX459 | 75.80 | 70.75
TX461 | 69.05 | 64.46
TX470 | 67.59 | 63.08
TX472 | 67.59 | 63.08
TX480 | 87.93 | 82.08
TX481 | 67.59 | 63.08
TX482 | 67.59 | 63.08
TX483 | 79.76 | 74.45
TX484 | 86.14 | 80.39
TX485 | 64.91 | 60.58
TX486 | 65.98 | 61.57
TX488 | 64.91 | 60.58
TX493 | 90.16 | 84.16
TX495 | 84.01 | 78.41
TX497 | 67.76 | 63.23
TX498 | 69.17 | 64.56
TX499 | 67.59 | 63.08
TX500 | 64.91 | 60.58
TX505 | 79.76 | 74.45
TX509 | 68.54 | 63.97
TX511 | 64.91 | 60.58
TX512 | 64.91 | 60.58
TX514 | 67.59 | 63.08
TX516 | 64.91 | 60.58
TX519 | 64.91 | 60.58
TX522 | 90.16 | 84.16
TX523 | 69.17 | 64.56
TX526 | 90.33 | 84.31
TX534 | 86.86 | 81.07
TX535 | 64.91 | 60.58
TX537 | 64.91 | 60.58
TX542 | 67.59 | 63.08
TX546 | 67.59 | 63.08
TX559 | 90.16 | 84.16
TX560 | 79.76 | 74.45
TX901 | 79.76 | 74.45
UT002 | 77.32 | 72.16
UT003 | 77.32 | 72.16
UT004 | 77.32 | 72.16
UT006 | 80.28 | 74.92
UT007 | 77.32 | 72.16
UT009 | 77.32 | 72.16
UT011 | 77.32 | 72.16
UT014 | 91.32 | 85.22
UT015 | 91.32 | 85.22
UT016 | 91.32 | 85.22
UT020 | 77.32 | 72.16
UT021 | 79.62 | 74.33
UT022 | 77.32 | 72.16
UT025 | 77.32 | 72.16
UT026 | 77.32 | 72.16
UT028 | 91.32 | 85.22
UT029 | 91.32 | 85.22
UT030 | 77.32 | 72.16
UT031 | 80.28 | 74.92
VA001 | 81.34 | 75.92
VA002 | 65.82 | 61.43
VA003 | 81.34 | 75.92
VA004 | 119.93 | 111.95
VA005 | 73.79 | 68.86
VA006 | 81.34 | 75.92
VA007 | 73.79 | 68.86
VA010 | 62.67 | 58.50
VA011 | 64.94 | 60.60
VA012 | 81.34 | 75.92
VA013 | 65.67 | 61.29
VA014 | 65.67 | 61.29
VA015 | 58.96 | 55.03
VA016 | 82.51 | 77.00
VA017 | 81.34 | 75.92
VA018 | 58.96 | 55.03
VA019 | 119.93 | 111.95
VA020 | 73.79 | 68.86
VA021 | 58.96 | 55.03
VA022 | 59.70 | 55.71
VA023 | 59.70 | 55.71
VA024 | 58.96 | 55.03
VA025 | 81.34 | 75.92
VA028 | 119.93 | 111.95
VA030 | 58.96 | 55.03
VA031 | 65.82 | 61.43
VA032 | 65.82 | 61.43
VA034 | 58.96 | 55.03
VA035 | 119.93 | 111.95
VA036 | 82.51 | 77.00
VA037 | 59.11 | 55.16
VA038 | 58.96 | 55.03
VA039 | 81.34 | 75.92
VA040 | 58.96 | 55.03
VA041 | 81.34 | 75.92
VA042 | 65.82 | 61.43
VA044 | 59.67 | 55.69
VA046 | 119.93 | 111.95
VA901 | 73.79 | 68.86
VQ901 | 105.65 | 98.62
VT001 | 102.01 | 95.21
VT002 | 86.92 | 81.13
VT003 | 89.91 | 83.92
VT004 | 89.02 | 83.08
VT005 | 83.34 | 77.78
VT006 | 102.01 | 95.21
VT008 | 83.34 | 77.78
VT009 | 84.24 | 78.62
VT901 | 102.01 | 95.21
WA001 | 112.57 | 105.04
WA002 | 112.57 | 105.04
WA003 | 99.42 | 92.80
WA004 | 93.15 | 86.93
WA005 | 95.58 | 89.23
WA006 | 112.57 | 105.04
WA007 | 76.64 | 71.53
WA008 | 91.00 | 84.92
WA011 | 112.57 | 105.04
WA012 | 86.84 | 81.04
WA013 | 86.44 | 80.67
WA014 | 71.83 | 67.04
WA017 | 71.83 | 67.04
WA018 | 93.15 | 86.93
WA020 | 76.64 | 71.53
WA021 | 86.84 | 81.04
WA024 | 109.44 | 102.13
WA025 | 106.86 | 99.72
WA036 | 99.42 | 92.80
WA039 | 112.57 | 105.04
WA042 | 90.29 | 84.26
WA049 | 102.72 | 95.86
WA054 | 95.58 | 89.23
WA055 | 86.47 | 80.71
WA057 | 93.87 | 87.61
WA061 | 97.70 | 91.18
WA064 | 88.91 | 82.97
WA071 | 78.72 | 73.46
WI001 | 70.53 | 65.83
WI002 | 69.05 | 64.46
WI003 | 76.86 | 71.74
WI006 | 66.07 | 61.67
WI011 | 58.70 | 54.78
WI020 | 95.35 | 88.99
WI031 | 57.77 | 53.92
WI043 | 58.15 | 54.28
WI045 | 57.75 | 53.90
WI047 | 57.77 | 53.92
WI048 | 57.75 | 53.90
WI060 | 95.35 | 88.99
WI064 | 64.08 | 59.81
WI065 | 58.15 | 54.28
WI068 | 58.70 | 54.78
WI069 | 58.70 | 54.78
WI070 | 57.75 | 53.90
WI083 | 69.05 | 64.46
WI085 | 57.75 | 53.90
WI091 | 57.77 | 53.92
WI096 | 57.75 | 53.90
WI127 | 57.75 | 53.90
WI131 | 57.75 | 53.90
WI142 | 69.05 | 64.46
WI160 | 57.75 | 53.90
WI166 | 57.75 | 53.90
WI183 | 63.09 | 58.87
WI186 | 57.89 | 54.02
WI193 | 57.77 | 53.92
WI195 | 71.41 | 66.64
WI201 | 69.05 | 64.46
WI203 | 64.08 | 59.81
WI204 | 58.70 | 54.78
WI205 | 57.75 | 53.90
WI206 | 57.75 | 53.90
WI208 | 57.75 | 53.90
WI213 | 58.15 | 54.28
WI214 | 76.86 | 71.74
WI218 | 69.05 | 64.46
WI219 | 64.08 | 59.81
WI221 | 57.75 | 53.90
WI222 | 57.75 | 53.90
WI231 | 57.75 | 53.90
WI233 | 57.75 | 53.90
WI237 | 58.83 | 54.91
WI241 | 57.75 | 53.90
WI244 | 63.40 | 59.17
WI245 | 57.75 | 53.90
WI246 | 58.41 | 54.50
WI248 | 57.77 | 53.92
WI256 | 57.75 | 53.90
WI901 | 57.77 | 53.92
WV001 | 78.98 | 73.71
WV003 | 63.71 | 59.46
WV004 | 65.11 | 60.77
WV005 | 62.50 | 58.33
WV006 | 65.83 | 61.43
WV009 | 66.52 | 62.09
WV010 | 67.43 | 62.93
WV015 | 62.50 | 58.33
WV016 | 65.44 | 61.07
WV017 | 60.70 | 56.65
WV018 | 60.70 | 56.65
WV027 | 61.97 | 57.85
WV034 | 60.70 | 56.65
WV035 | 61.97 | 57.85
WV037 | 65.11 | 60.77
WV039 | 62.50 | 58.33
WV042 | 62.50 | 58.33
WV045 | 60.70 | 56.65
WY002 | 87.27 | 81.47
WY003 | 71.11 | 66.37
WY004 | 105.15 | 98.15
WY013 | 71.11 | 66.37
AK901 | 98.76 | 92.18
AL001 | 66.91 | 62.45
AL002 | 67.96 | 63.44
AL004 | 66.03 | 61.63
AL005 | 68.81 | 64.22
AL006 | 66.03 | 61.63
AL007 | 66.03 | 61.63
AL008 | 64.77 | 60.46
AL011 | 64.77 | 60.46
AL012 | 66.03 | 61.63
AL014 | 64.77 | 60.46
AL047 | 67.98 | 63.46
AL048 | 66.03 | 61.63
AL049 | 66.03 | 61.63
AL050 | 66.03 | 61.63
AL052 | 64.77 | 60.46
AL053 | 64.77 | 60.46
AL054 | 66.03 | 61.63
AL060 | 64.77 | 60.46
AL061 | 66.03 | 61.63
AL063 | 66.91 | 62.45
AL068 | 66.03 | 61.63
AL069 | 66.91 | 62.45
AL072 | 66.91 | 62.45
AL073 | 64.94 | 60.60
AL075 | 64.77 | 60.46
AL077 | 66.03 | 61.63
AL086 | 66.91 | 62.45
AL090 | 64.77 | 60.46
AL091 | 64.77 | 60.46
AL099 | 64.77 | 60.46
AL105 | 64.77 | 60.46
AL107 | 64.77 | 60.46
AL112 | 64.77 | 60.46
AL114 | 64.77 | 60.46
AL115 | 64.77 | 60.46
AL116 | 64.77 | 60.46
AL118 | 64.77 | 60.46
AL121 | 64.77 | 60.46
AL124 | 64.94 | 60.60
AL125 | 66.91 | 62.45
AL129 | 66.03 | 61.63
AL131 | 66.03 | 61.63
AL138 | 66.03 | 61.63
AL139 | 66.03 | 61.63
AL152 | 66.03 | 61.63
AL154 | 64.77 | 60.46
AL155 | 64.77 | 60.46
AL160 | 64.77 | 60.46
AL165 | 68.95 | 64.36
AL169 | 67.96 | 63.44
AL171 | 64.77 | 60.46
AL172 | 66.03 | 61.63
AL174 | 64.77 | 60.46
AL177 | 64.77 | 60.46
AL181 | 64.77 | 60.46
AL192 | 64.77 | 60.46
AL202 | 67.96 | 63.44
AR002 | 70.26 | 65.58
AR003 | 64.40 | 60.11
AR004 | 70.26 | 65.58
AR006 | 70.26 | 65.58
AR010 | 61.94 | 57.81
AR012 | 61.94 | 57.81
AR015 | 63.99 | 59.72
AR016 | 61.94 | 57.81
AR017 | 64.40 | 60.11
AR020 | 61.94 | 57.81
AR024 | 67.53 | 63.03
AR031 | 64.40 | 60.11
AR033 | 61.94 | 57.81
AR034 | 64.40 | 60.11
AR035 | 61.94 | 57.81
AR037 | 61.94 | 57.81
AR039 | 61.94 | 57.81
AR041 | 70.26 | 65.58
AR042 | 64.40 | 60.11
AR045 | 61.94 | 57.81
AR052 | 61.94 | 57.81
AR059 | 61.94 | 57.81
AR066 | 61.94 | 57.81
AR068 | 61.94 | 57.81
AR082 | 61.94 | 57.81
AR104 | 64.40 | 60.11
AR117 | 61.94 | 57.81
AR121 | 61.94 | 57.81
AR131 | 64.40 | 60.11
AR135 | 61.94 | 57.81
AR152 | 61.94 | 57.81
AR161 | 61.94 | 57.81
AR163 | 64.40 | 60.11
AR166 | 61.94 | 57.81
AR170 | 70.26 | 65.58
AR175 | 70.26 | 65.58
AR176 | 61.94 | 57.81
AR177 | 61.94 | 57.81
AR181 | 64.40 | 60.11
AR194 | 64.40 | 60.11
AR197 | 61.94 | 57.81
AR200 | 61.94 | 57.81
AR210 | 61.94 | 57.81
AR211 | 61.94 | 57.81
AR213 | 61.94 | 57.81
AR214 | 61.94 | 57.81
AR215 | 61.94 | 57.81
AR219 | 70.26 | 65.58
AR223 | 61.94 | 57.81
AR224 | 61.94 | 57.81
AR225 | 61.94 | 57.81
AR232 | 64.40 | 60.11
AR240 | 61.94 | 57.81
AR241 | 64.75 | 60.43
AR247 | 61.94 | 57.81
AR252 | 70.26 | 65.58
AR257 | 61.94 | 57.81
AR264 | 67.53 | 63.03
AR265 | 61.94 | 57.81
AR266 | 61.94 | 57.81
AZ001 | 71.74 | 66.95
AZ003 | 71.74 | 66.95
AZ004 | 70.92 | 66.19
AZ005 | 71.74 | 66.95
AZ006 | 78.44 | 73.22
AZ008 | 57.11 | 53.30
AZ009 | 71.74 | 66.95
AZ010 | 71.74 | 66.95
AZ013 | 79.70 | 74.39
AZ021 | 71.74 | 66.95
AZ023 | 60.18 | 56.16
AZ025 | 70.92 | 66.19
AZ028 | 71.74 | 66.95
AZ031 | 71.74 | 66.95
AZ032 | 71.74 | 66.95
AZ033 | 70.92 | 66.19
AZ034 | 58.94 | 55.01
AZ035 | 79.70 | 74.39
AZ037 | 58.94 | 55.01
AZ041 | 78.44 | 73.22
AZ043 | 96.06 | 89.66
AZ045 | 59.18 | 55.23
AZ880 | 71.74 | 66.95
AZ901 | 78.44 | 73.22
CA001 | 124.34 | 116.06
CA002 | 124.34 | 116.06
CA003 | 124.34 | 116.06
CA004 | 124.34 | 116.06
CA005 | 94.43 | 88.13
CA006 | 86.64 | 80.85
CA007 | 94.43 | 88.13
CA008 | 94.75 | 88.44
CA010 | 124.34 | 116.06
CA011 | 124.34 | 116.06
CA014 | 124.34 | 116.06
CA019 | 99.19 | 92.59
CA021 | 121.41 | 113.30
CA022 | 99.19 | 92.59
CA023 | 81.40 | 75.99
CA024 | 90.60 | 84.57
CA026 | 91.24 | 85.15
CA027 | 99.19 | 92.59
CA028 | 86.64 | 80.85
CA030 | 80.79 | 75.41
CA031 | 124.34 | 116.06
CA032 | 124.34 | 116.06
CA033 | 107.12 | 99.97
CA035 | 124.34 | 116.06
CA039 | 90.15 | 84.14
CA041 | 107.94 | 100.74
CA043 | 83.26 | 77.70
CA044 | 94.43 | 88.13
CA048 | 71.45 | 66.69
CA052 | 124.34 | 116.06
CA053 | 78.19 | 72.98
CA055 | 107.94 | 100.74
CA056 | 124.34 | 116.06
CA058 | 124.34 | 116.06
CA059 | 124.34 | 116.06
CA060 | 124.34 | 116.06
CA061 | 82.57 | 77.07
CA062 | 124.34 | 116.06
CA063 | 111.17 | 103.75
CA064 | 107.63 | 100.46
CA065 | 107.94 | 100.74
CA066 | 107.94 | 100.74
CA067 | 124.34 | 116.06
CA068 | 124.34 | 116.06
CA069 | 86.64 | 80.85
CA070 | 75.57 | 70.53
CA071 | 124.34 | 116.06
CA072 | 124.34 | 116.06
CA073 | 107.94 | 100.74
CA074 | 124.34 | 116.06
CA075 | 124.34 | 116.06
CA076 | 121.41 | 113.30
CA077 | 111.17 | 103.75
CA079 | 124.34 | 116.06
CA082 | 124.34 | 116.06
CA084 | 88.99 | 83.06
CA085 | 121.27 | 113.19
CA086 | 85.06 | 79.38
CA088 | 121.27 | 113.19
CA092 | 124.34 | 116.06
CA093 | 124.34 | 116.06
CA094 | 124.34 | 116.06
CA096 | 86.64 | 80.85
CA102 | 124.34 | 116.06
CA103 | 124.34 | 116.06
CA104 | 124.34 | 116.06
CA105 | 124.34 | 116.06
CA106 | 86.64 | 80.85
CA108 | 111.17 | 103.75
CA110 | 124.34 | 116.06
CA111 | 124.34 | 116.06
CA114 | 124.34 | 116.06
CA116 | 111.17 | 103.75
CA117 | 124.34 | 116.06
CA118 | 124.34 | 116.06
CA119 | 124.34 | 116.06
CA120 | 124.34 | 116.06
CA121 | 124.34 | 116.06
CA123 | 124.34 | 116.06
CA125 | 107.94 | 100.74
CA126 | 124.34 | 116.06
CA128 | 94.43 | 88.13
CA131 | 107.94 | 100.74
CA132 | 111.17 | 103.75
CA136 | 124.34 | 116.06
CA143 | 90.15 | 84.14
CA144 | 82.57 | 77.07
CA149 | 94.43 | 88.13
CA151 | 94.43 | 88.13
CA155 | 111.17 | 103.75
CO001 | 75.37 | 70.35
CO002 | 69.62 | 64.97
CO005 | 78.46 | 73.23
CO006 | 67.16 | 62.68
CO016 | 85.53 | 79.82
CO019 | 75.37 | 70.35
CO024 | 67.16 | 62.68
CO028 | 70.31 | 65.62
CO031 | 67.16 | 62.68
CO034 | 81.04 | 75.65
CO035 | 69.88 | 65.23
CO036 | 75.37 | 70.35
CO040 | 103.71 | 96.81
CO041 | 81.04 | 75.65
CO043 | 78.46 | 73.23
CO045 | 67.16 | 62.68
CO048 | 75.37 | 70.35
CO049 | 75.37 | 70.35
CO050 | 75.37 | 70.35
CO051 | 88.17 | 82.29
CO052 | 75.37 | 70.35
CO057 | 75.37 | 70.35
CO058 | 75.37 | 70.35
CO061 | 85.53 | 79.82
CO070 | 85.53 | 79.82
CO071 | 70.31 | 65.62
CO072 | 75.37 | 70.35
CO079 | 78.46 | 73.23
CO087 | 103.71 | 96.81
CO090 | 69.88 | 65.23
CO095 | 99.17 | 92.56
CO101 | 67.16 | 62.68
CO103 | 81.04 | 75.65
CO888 | 69.62 | 64.97
CO911 | 75.37 | 70.35
CO921 | 75.37 | 70.35
CT001 | 97.21 | 90.74
CT002 | 104.20 | 97.26
CT003 | 91.63 | 85.51
CT004 | 101.00 | 94.26
CT005 | 91.63 | 85.51
CT006 | 82.46 | 76.96
CT007 | 104.20 | 97.26
CT008 | 91.63 | 85.51
CT009 | 91.63 | 85.51
CT010 | 81.77 | 76.32
CT011 | 101.00 | 94.26
CT013 | 91.63 | 85.51
CT015 | 97.21 | 90.74
CT017 | 97.21 | 90.74
CT018 | 89.95 | 83.95
CT019 | 104.20 | 97.26
CT020 | 104.20 | 97.26
CT023 | 91.63 | 85.51
CT024 | 81.77 | 76.32
CT026 | 91.63 | 85.51
CT027 | 97.21 | 90.74
CT028 | 91.63 | 85.51
CT029 | 101.00 | 94.26
CT030 | 97.21 | 90.74
CT031 | 81.77 | 76.32
CT032 | 91.63 | 85.51
CT033 | 91.63 | 85.51
CT036 | 91.63 | 85.51
CT038 | 91.63 | 85.51
CT039 | 91.63 | 85.51
CT040 | 91.63 | 85.51
CT041 | 91.63 | 85.51
CT042 | 101.00 | 94.26
CT047 | 82.46 | 76.96
CT048 | 91.63 | 85.51
CT049 | 91.63 | 85.51
CT051 | 91.63 | 85.51
CT052 | 97.21 | 90.74
CT053 | 91.63 | 85.51
CT058 | 81.77 | 76.32
CT061 | 81.77 | 76.32
CT063 | 101.00 | 94.26
CT067 | 101.00 | 94.26
CT068 | 91.63 | 85.51
CT901 | 91.63 | 85.51
DC001 | 114.69 | 107.05
DC880 | 114.69 | 107.05
DE001 | 90.84 | 84.79
DE002 | 79.68 | 74.37
DE003 | 90.84 | 84.79
DE005 | 90.84 | 84.79
DE901 | 79.68 | 74.37
FL001 | 73.57 | 68.67
FL002 | 77.67 | 72.49
FL003 | 77.67 | 72.49
FL004 | 81.13 | 75.71
FL005 | 105.40 | 98.39
FL007 | 77.87 | 72.68
FL008 | 85.25 | 79.56
FL009 | 82.31 | 76.82
FL010 | 98.69 | 92.11
FL011 | 64.65 | 60.34
FL013 | 106.69 | 99.60
FL015 | 69.13 | 64.52
FL017 | 105.40 | 98.39
FL018 | 63.15 | 58.94
FL019 | 74.89 | 69.91
FL020 | 74.89 | 69.91
FL021 | 82.31 | 76.82
FL022 | 77.87 | 72.68
FL023 | 85.25 | 79.56
FL024 | 77.87 | 72.68
FL025 | 74.89 | 69.91
FL026 | 64.65 | 60.34
FL028 | 98.69 | 92.11
FL030 | 77.87 | 72.68
FL031 | 62.05 | 57.92
FL032 | 63.66 | 59.41
FL033 | 81.13 | 75.71
FL034 | 77.67 | 72.49
FL035 | 63.15 | 58.94
FL037 | 73.57 | 68.67
FL041 | 82.75 | 77.24
FL045 | 82.75 | 77.24
FL046 | 63.15 | 58.94
FL047 | 81.66 | 76.23
FL049 | 62.05 | 57.92
FL053 | 63.66 | 59.41
FL057 | 62.05 | 57.92
FL060 | 79.52 | 74.22
FL062 | 77.67 | 72.49
FL063 | 69.80 | 65.15
FL066 | 105.40 | 98.39
FL068 | 105.40 | 98.39
FL069 | 63.15 | 58.94
FL070 | 69.80 | 65.15
FL071 | 64.65 | 60.34
FL072 | 77.87 | 72.68
FL073 | 69.13 | 64.52
FL075 | 77.67 | 72.49
FL079 | 98.69 | 92.11
FL080 | 82.31 | 76.82
FL081 | 98.69 | 92.11
FL083 | 82.31 | 76.82
FL092 | 63.66 | 59.41
FL093 | 81.13 | 75.71
FL102 | 63.15 | 58.94
FL104 | 77.67 | 72.49
FL105 | 85.25 | 79.56
FL106 | 81.13 | 75.71
FL109 | 62.05 | 57.92
FL110 | 63.15 | 58.94
FL113 | 77.87 | 72.68
FL116 | 98.69 | 92.11
FL119 | 82.31 | 76.82
FL123 | 78.29 | 73.07
FL128 | 81.66 | 76.23
FL132 | 82.44 | 76.97
FL136 | 98.69 | 92.11
FL137 | 77.67 | 72.49
FL139 | 64.65 | 60.34
FL141 | 84.98 | 79.31
FL144 | 106.69 | 99.60
FL145 | 105.40 | 98.39
FL147 | 63.15 | 58.94
FL201 | 81.13 | 75.71
FL202 | 62.05 | 57.92
FL881 | 105.40 | 98.39
FL888 | 77.67 | 72.49
GA001 | 68.81 | 64.22
GA002 | 68.81 | 64.22
GA004 | 68.81 | 64.22
GA006 | 83.89 | 78.29
GA007 | 68.81 | 64.22
GA009 | 68.81 | 64.22
GA010 | 83.89 | 78.29
GA011 | 83.89 | 78.29
GA023 | 68.81 | 64.22
GA062 | 65.31 | 60.96
GA078 | 83.89 | 78.29
GA095 | 83.89 | 78.29
GA116 | 83.89 | 78.29
GA188 | 83.89 | 78.29
GA228 | 83.89 | 78.29
GA232 | 83.89 | 78.29
GA237 | 83.89 | 78.29
GA264 | 83.89 | 78.29
GA269 | 83.89 | 78.29
GA285 | 68.81 | 64.22
GA901 | 83.89 | 78.29
GQ901 | 115.26 | 107.59
HI002 | 113.76 | 106.17
HI003 | 126.72 | 118.28
HI004 | 126.74 | 118.30
HI005 | 128.12 | 119.59
HI901 | 126.72 | 118.28
IA002 | 65.95 | 61.55
IA004 | 69.33 | 64.71
IA015 | 65.95 | 61.55
IA018 | 69.01 | 64.41
IA020 | 78.77 | 73.53
IA022 | 80.28 | 74.94
IA023 | 69.61 | 64.97
IA024 | 76.26 | 71.17
IA030 | 65.95 | 61.55
IA038 | 76.56 | 71.45
IA042 | 65.95 | 61.55
IA045 | 72.21 | 67.40
IA047 | 65.95 | 61.55
IA049 | 65.95 | 61.55
IA050 | 76.56 | 71.45
IA054 | 65.95 | 61.55
IA056 | 65.95 | 61.55
IA057 | 65.95 | 61.55
IA084 | 65.95 | 61.55
IA087 | 70.58 | 65.87
IA098 | 69.48 | 64.86
IA100 | 65.95 | 61.55
IA107 | 65.95 | 61.55
IA108 | 65.95 | 61.55
IA113 | 76.56 | 71.45
IA114 | 65.95 | 61.55
IA117 | 69.61 | 64.97
IA119 | 65.95 | 61.55
IA120 | 78.77 | 73.53
IA122 | 65.95 | 61.55
IA124 | 65.95 | 61.55
IA125 | 65.95 | 61.55
IA126 | 72.21 | 67.40
IA127 | 65.95 | 61.55
IA128 | 65.95 | 61.55
IA129 | 65.95 | 61.55
IA130 | 65.95 | 61.55
IA131 | 78.77 | 73.53
IA132 | 76.56 | 71.45
IA136 | 65.95 | 61.55
ID005 | 67.21 | 62.73
ID013 | 83.52 | 77.95
ID016 | 83.52 | 77.95
ID021 | 83.52 | 77.95
ID901 | 69.57 | 64.92
IL002 | 95.61 | 89.22
IL003 | 75.49 | 70.46
IL004 | 68.80 | 64.21
IL006 | 67.38 | 62.89
IL009 | 72.21 | 67.40
IL010 | 72.21 | 67.40
IL011 | 61.14 | 57.07
IL012 | 65.10 | 60.76
IL014 | 72.77 | 67.92
IL015 | 66.03 | 61.62
IL016 | 60.83 | 56.78
IL018 | 72.21 | 67.40
IL020 | 72.21 | 67.40
IL022 | 68.66 | 64.08
IL024 | 95.61 | 89.22
IL025 | 95.61 | 89.22
IL026 | 95.61 | 89.22
IL028 | 68.80 | 64.21
IL030 | 66.03 | 61.62
IL032 | 72.77 | 67.92
IL034 | 67.38 | 62.89
IL035 | 72.77 | 67.92
IL036 | 61.14 | 57.07
IL037 | 60.83 | 56.78
IL038 | 60.83 | 56.78
IL039 | 65.23 | 60.89
IL040 | 60.83 | 56.78
IL042 | 60.83 | 56.78
IL043 | 60.83 | 56.78
IL050 | 61.14 | 57.07
IL051 | 67.14 | 62.67
IL052 | 60.83 | 56.78
IL053 | 61.14 | 57.07
IL054 | 95.61 | 89.22
IL056 | 95.61 | 89.22
IL057 | 60.83 | 56.78
IL059 | 60.83 | 56.78
IL061 | 61.55 | 57.44
IL074 | 66.03 | 61.62
IL076 | 60.83 | 56.78
IL079 | 60.83 | 56.78
IL082 | 60.83 | 56.78
IL083 | 68.66 | 64.08
IL084 | 64.53 | 60.23
IL085 | 62.10 | 57.97
IL086 | 64.53 | 60.23
IL087 | 60.83 | 56.78
IL088 | 60.83 | 56.78
IL089 | 75.77 | 70.72
IL090 | 95.61 | 89.22
IL091 | 60.83 | 56.78
IL092 | 95.61 | 89.22
IL095 | 71.35 | 66.59
IL096 | 60.83 | 56.78
IL101 | 95.61 | 89.22
IL103 | 95.61 | 89.22
IL104 | 75.49 | 70.46
IL107 | 95.61 | 89.22
IL116 | 95.61 | 89.22
IL117 | 67.14 | 62.67
IL120 | 60.83 | 56.78
IL122 | 68.66 | 64.08
IL123 | 60.83 | 56.78
IL124 | 75.49 | 70.46
IL126 | 61.14 | 57.07
IL130 | 95.61 | 89.22
IL131 | 72.21 | 67.40
IL136 | 95.61 | 89.22
IL137 | 96.43 | 89.99
IL901 | 95.61 | 89.22
IN002 | 52.23 | 48.75
IN003 | 58.21 | 54.34
IN004 | 54.22 | 50.61
IN005 | 54.22 | 50.61
IN006 | 64.36 | 60.07
IN007 | 56.62 | 52.85
IN009 | 52.23 | 48.75
IN010 | 71.06 | 66.33
IN011 | 71.06 | 66.33
IN012 | 61.41 | 57.32
IN015 | 57.30 | 53.48
IN016 | 56.26 | 52.51
IN017 | 64.36 | 60.07
IN018 | 52.23 | 48.75
IN019 | 56.13 | 52.38
IN020 | 57.30 | 53.48
IN021 | 54.22 | 50.61
IN022 | 57.68 | 53.85
IN023 | 61.41 | 57.32
IN025 | 61.41 | 57.32
IN026 | 56.25 | 52.50
IN029 | 71.06 | 66.33
IN031 | 52.23 | 48.75
IN032 | 53.17 | 49.62
IN035 | 54.22 | 50.61
IN037 | 56.26 | 52.51
IN041 | 52.23 | 48.75
IN043 | 52.23 | 48.75
IN047 | 52.23 | 48.75
IN048 | 52.23 | 48.75
IN050 | 52.23 | 48.75
IN055 | 53.17 | 49.62
IN056 | 54.67 | 51.02
IN058 | 58.73 | 54.83
IN060 | 56.25 | 52.50
IN062 | 56.07 | 52.34
IN067 | 52.23 | 48.75
IN071 | 62.16 | 58.00
IN073 | 52.23 | 48.75
IN077 | 53.17 | 49.62
IN078 | 54.67 | 51.02
IN079 | 64.36 | 60.07
IN080 | 64.36 | 60.07
IN084 | 52.23 | 48.75
IN086 | 52.23 | 48.75
IN091 | 52.23 | 48.75
IN092 | 52.23 | 48.75
IN094 | 54.36 | 50.72
IN100 | 57.30 | 53.48
IN901 | 64.36 | 60.07
KS001 | 64.19 | 59.90
KS002 | 60.28 | 56.27
KS004 | 64.95 | 60.61
KS006 | 57.08 | 53.27
KS017 | 57.08 | 53.27
KS038 | 57.08 | 53.27
KS041 | 57.08 | 53.27
KS043 | 64.19 | 59.90
KS053 | 66.62 | 62.18
KS062 | 57.08 | 53.27
KS063 | 57.23 | 53.42
KS068 | 64.19 | 59.90
KS073 | 64.95 | 60.61
KS091 | 57.08 | 53.27
KS149 | 57.08 | 53.27
KS159 | 57.08 | 53.27
KS161 | 57.08 | 53.27
KS162 | 64.19 | 59.90
KS165 | 57.08 | 53.27
KS166 | 57.08 | 53.27
KS167 | 57.23 | 53.42
KS168 | 60.28 | 56.27
KS170 | 57.08 | 53.27
KY001 | 61.41 | 57.32
KY003 | 56.21 | 52.46
KY004 | 68.01 | 63.48
KY007 | 55.18 | 51.50
KY008 | 55.18 | 51.50
KY009 | 61.41 | 57.32
KY011 | 68.41 | 63.85
KY012 | 56.26 | 52.51
KY015 | 69.20 | 64.58
KY017 | 55.18 | 51.50
KY021 | 55.18 | 51.50
KY022 | 55.18 | 51.50
KY026 | 55.18 | 51.50
KY027 | 55.18 | 51.50
KY035 | 55.18 | 51.50
KY040 | 55.18 | 51.50
KY047 | 55.18 | 51.50
KY053 | 55.18 | 51.50
KY056 | 55.18 | 51.50
KY061 | 68.01 | 63.48
KY071 | 61.34 | 57.25
KY086 | 55.18 | 51.50
KY107 | 55.18 | 51.50
KY121 | 55.18 | 51.50
KY132 | 61.11 | 57.03
KY133 | 69.20 | 64.58
KY135 | 69.20 | 64.58
KY136 | 69.20 | 64.58
KY137 | 55.18 | 51.50
KY138 | 55.18 | 51.50
KY140 | 68.01 | 63.48
KY141 | 55.18 | 51.50
KY142 | 60.35 | 56.32
KY150 | 55.18 | 51.50
KY157 | 55.18 | 51.50
KY160 | 55.18 | 51.50
KY161 | 60.35 | 56.32
KY163 | 55.18 | 51.50
KY169 | 55.18 | 51.50
KY171 | 61.41 | 57.32
KY901 | 68.01 | 63.48
LA001 | 71.29 | 66.52
LA002 | 69.78 | 65.14
LA003 | 76.97 | 71.84
LA004 | 66.61 | 62.17
LA005 | 66.61 | 62.17
LA006 | 66.61 | 62.17
LA009 | 76.97 | 71.84
LA012 | 71.29 | 66.52
LA013 | 71.29 | 66.52
LA023 | 66.61 | 62.17
LA024 | 66.10 | 61.69
LA029 | 66.61 | 62.17
LA031 | 66.10 | 61.69
LA032 | 66.61 | 62.17
LA033 | 66.10 | 61.69
LA036 | 66.10 | 61.69
LA037 | 71.11 | 66.38
LA046 | 66.61 | 62.17
LA057 | 66.61 | 62.17
LA063 | 66.61 | 62.17
LA067 | 66.10 | 61.69
LA074 | 66.10 | 61.69
LA086 | 66.10 | 61.69
LA094 | 71.29 | 66.52
LA097 | 66.10 | 61.69
LA101 | 76.97 | 71.84
LA103 | 71.29 | 66.52
LA104 | 66.61 | 62.17
LA111 | 66.10 | 61.69
LA114 | 66.10 | 61.69
LA115 | 66.10 | 61.69
LA120 | 66.61 | 62.17
LA122 | 66.61 | 62.17
LA125 | 66.10 | 61.69
LA128 | 66.10 | 61.69
LA129 | 66.61 | 62.17
LA132 | 66.10 | 61.69
LA159 | 66.10 | 61.69
LA163 | 66.10 | 61.69
LA165 | 66.61 | 62.17
LA166 | 66.10 | 61.69
LA168 | 66.61 | 62.17
LA169 | 66.10 | 61.69
LA171 | 66.61 | 62.17
LA172 | 66.61 | 62.17
LA173 | 66.61 | 62.17
LA174 | 66.61 | 62.17
LA178 | 66.61 | 62.17
LA179 | 66.61 | 62.17
LA181 | 71.29 | 66.52
LA182 | 66.10 | 61.69
LA184 | 69.78 | 65.14
LA186 | 66.61 | 62.17
LA187 | 71.29 | 66.52
LA188 | 66.10 | 61.69
LA189 | 66.61 | 62.17
LA190 | 69.78 | 65.14
LA192 | 66.10 | 61.69
LA194 | 68.25 | 63.71
LA195 | 66.10 | 61.69
LA196 | 66.61 | 62.17
LA199 | 76.97 | 71.84
LA202 | 76.97 | 71.84
LA204 | 76.97 | 71.84
LA205 | 76.97 | 71.84
LA206 | 66.61 | 62.17
LA207 | 66.61 | 62.17
LA211 | 68.25 | 63.71
LA212 | 66.10 | 61.69
LA213 | 71.11 | 66.38
LA214 | 66.61 | 62.17
LA215 | 66.10 | 61.69
LA219 | 76.97 | 71.84
LA220 | 66.10 | 61.69
LA222 | 66.10 | 61.69
LA229 | 66.10 | 61.69
LA230 | 69.78 | 65.14
LA232 | 66.10 | 61.69
LA233 | 66.10 | 61.69
LA238 | 71.29 | 66.52
LA241 | 66.10 | 61.69
LA242 | 66.10 | 61.69
LA246 | 66.10 | 61.69
LA247 | 66.10 | 61.69
LA248 | 66.10 | 61.69
LA253 | 68.25 | 63.71
LA257 | 66.10 | 61.69
LA258 | 66.10 | 61.69
LA266 | 66.61 | 62.17
LA888 | 69.78 | 65.14
LA889 | 71.29 | 66.52
LA903 | 71.29 | 66.52
MA001 | 117.46 | 109.64
MA002 | 126.96 | 118.49
MA003 | 126.96 | 118.49
MA005 | 117.46 | 109.64
MA006 | 116.13 | 108.40
MA007 | 117.46 | 109.64
MA008 | 117.46 | 109.64
MA010 | 117.46 | 109.64
MA012 | 117.46 | 109.64
MA013 | 126.96 | 118.49
MA014 | 126.96 | 118.49
MA015 | 126.96 | 118.49
MA016 | 126.96 | 118.49
MA017 | 126.96 | 118.49
MA018 | 116.13 | 108.40
MA019 | 126.96 | 118.49
MA020 | 126.96 | 118.49
MA022 | 126.96 | 118.49
MA023 | 126.96 | 118.49
MA024 | 117.46 | 109.64
MA025 | 126.96 | 118.49
MA026 | 117.46 | 109.64
MA027 | 126.96 | 118.49
MA028 | 126.96 | 118.49
MA029 | 117.46 | 109.64
MA031 | 126.96 | 118.49
MA032 | 126.96 | 118.49
MA033 | 126.96 | 118.49
MA034 | 117.46 | 109.64
MA035 | 117.46 | 109.64
MA036 | 126.96 | 118.49
MA037 | 117.46 | 109.64
MA039 | 117.46 | 109.64
MA040 | 126.96 | 118.49
MA041 | 117.46 | 109.64
MA042 | 126.96 | 118.49
MA043 | 117.46 | 109.64
MA044 | 126.96 | 118.49
MA045 | 126.96 | 118.49
MA046 | 127.26 | 118.78
MA047 | 127.26 | 118.78
MA048 | 126.96 | 118.49
MA050 | 117.46 | 109.64
MA051 | 117.46 | 109.64
MA053 | 126.96 | 118.49
MA054 | 126.96 | 118.49
MA055 | 126.96 | 118.49
MA056 | 126.96 | 118.49
MA057 | 126.96 | 118.49
MA059 | 126.96 | 118.49
MA060 | 117.46 | 109.64
MA061 | 126.96 | 118.49
MA063 | 126.96 | 118.49
MA065 | 126.96 | 118.49
MA066 | 117.46 | 109.64
MA067 | 126.96 | 118.49
MA069 | 126.96 | 118.49
MA070 | 126.96 | 118.49
MA072 | 126.96 | 118.49
MA073 | 126.96 | 118.49
MA074 | 126.96 | 118.49
MA075 | 126.96 | 118.49
MA076 | 117.46 | 109.64
MA077 | 117.46 | 109.64
MA078 | 117.46 | 109.64
MA079 | 126.96 | 118.49
MA080 | 117.46 | 109.64
MA081 | 117.46 | 109.64
MA082 | 117.46 | 109.64
MA084 | 117.46 | 109.64
MA085 | 117.46 | 109.64
MA086 | 117.46 | 109.64
MA087 | 117.46 | 109.64
MA088 | 117.46 | 109.64
MA089 | 126.96 | 118.49
MA090 | 126.96 | 118.49
MA091 | 126.96 | 118.49
MA092 | 126.96 | 118.49
MA093 | 126.96 | 118.49
MA094 | 116.88 | 109.10
MA095 | 127.26 | 118.78
MA096 | 116.88 | 109.10
MA098 | 126.96 | 118.49
MA099 | 126.96 | 118.49
MA100 | 117.46 | 109.64
MA101 | 126.96 | 118.49
MA105 | 117.46 | 109.64
MA106 | 117.46 | 109.64
MA107 | 117.46 | 109.64
MA108 | 117.46 | 109.64
MA109 | 126.96 | 118.49
MA110 | 127.26 | 118.78
MA111 | 126.96 | 118.49
MA112 | 126.96 | 118.49
MA116 | 126.96 | 118.49
MA117 | 126.96 | 118.49
MA118 | 126.96 | 118.49
MA119 | 126.96 | 118.49
MA121 | 126.96 | 118.49
MA122 | 126.96 | 118.49
MA123 | 117.46 | 109.64
MA125 | 126.96 | 118.49
MA127 | 117.46 | 109.64
MA133 | 126.96 | 118.49
MA134 | 126.96 | 118.49
MA135 | 126.96 | 118.49
MA138 | 127.26 | 118.78
MA139 | 117.46 | 109.64
MA140 | 126.96 | 118.49
MA147 | 126.96 | 118.49
MA154 | 126.96 | 118.49
MA155 | 126.96 | 118.49
MA165 | 126.96 | 118.49
MA170 | 116.13 | 108.40
MA172 | 117.46 | 109.64
MA174 | 126.96 | 118.49
MA180 | 127.26 | 118.78
MA181 | 127.26 | 118.78
MA188 | 117.46 | 109.64
MA880 | 126.96 | 118.49
MA881 | 126.96 | 118.49
MA882 | 117.46 | 109.64
MA883 | 126.96 | 118.49
MA901 | 126.96 | 118.49
MD001 | 84.56 | 78.92
MD002 | 84.56 | 78.92
MD003 | 114.69 | 107.05
MD004 | 114.69 | 107.05
MD006 | 66.34 | 61.90
MD007 | 114.69 | 107.05
MD009 | 63.94 | 59.68
MD014 | 76.00 | 70.94
MD015 | 114.69 | 107.05
MD016 | 90.84 | 84.79
MD018 | 84.56 | 78.92
MD019 | 76.22 | 71.13
MD021 | 95.93 | 89.53
MD022 | 114.69 | 107.05
MD023 | 84.56 | 78.92
MD024 | 114.69 | 107.05
MD025 | 84.56 | 78.92
MD027 | 84.56 | 78.92
MD028 | 66.34 | 61.90
MD029 | 90.84 | 84.79
MD032 | 84.56 | 78.92
MD033 | 84.56 | 78.92
MD034 | 84.56 | 78.92
MD901 | 114.69 | 107.05
ME001 | 64.81 | 60.49
ME002 | 64.81 | 60.49
ME003 | 103.66 | 96.76
ME004 | 64.81 | 60.49
ME005 | 74.18 | 69.22
ME006 | 79.27 | 73.97
ME007 | 74.18 | 69.22
ME008 | 68.14 | 63.59
ME009 | 75.29 | 70.28
ME011 | 91.20 | 85.11
ME015 | 103.66 | 96.76
ME018 | 75.29 | 70.28
ME019 | 83.08 | 77.53
ME020 | 103.66 | 96.76
ME021 | 75.29 | 70.28
ME025 | 64.81 | 60.49
ME027 | 66.53 | 62.10
ME028 | 91.20 | 85.11
ME030 | 68.14 | 63.59
ME901 | 63.62 | 59.37
MI001 | 66.73 | 62.29
MI003 | 66.73 | 62.29
MI005 | 66.73 | 62.29
MI006 | 57.07 | 53.26
MI008 | 66.73 | 62.29
MI009 | 57.44 | 53.61
MI010 | 58.17 | 54.30
MI019 | 54.78 | 51.13
MI020 | 54.78 | 51.13
MI023 | 55.08 | 51.41
MI027 | 66.73 | 62.29
MI030 | 54.78 | 51.13
MI031 | 62.99 | 58.79
MI032 | 58.17 | 54.30
MI035 | 60.15 | 56.14
MI036 | 54.78 | 51.13
MI037 | 66.73 | 62.29
MI038 | 57.67 | 53.84
MI039 | 66.73 | 62.29
MI040 | 66.73 | 62.29
MI044 | 66.73 | 62.29
MI045 | 66.73 | 62.29
MI047 | 54.78 | 51.13
MI048 | 66.73 | 62.29
MI049 | 54.78 | 51.13
MI050 | 54.78 | 51.13
MI051 | 66.73 | 62.29
MI052 | 66.73 | 62.29
MI055 | 66.73 | 62.29
MI058 | 63.98 | 59.72
MI059 | 66.73 | 62.29
MI060 | 58.76 | 54.83
MI061 | 59.13 | 55.19
MI063 | 54.78 | 51.13
MI064 | 79.51 | 74.21
MI066 | 62.99 | 58.79
MI070 | 58.76 | 54.83
MI073 | 62.99 | 58.79
MI074 | 59.13 | 55.19
MI080 | 60.81 | 56.76
MI084 | 58.76 | 54.83
MI087 | 58.76 | 54.83
MI089 | 66.73 | 62.29
MI093 | 62.99 | 58.79
MI094 | 54.78 | 51.13
MI096 | 66.73 | 62.29
MI097 | 66.73 | 62.29
MI100 | 66.73 | 62.29
MI112 | 54.78 | 51.13
MI115 | 62.99 | 58.79
MI117 | 54.78 | 51.13
MI119 | 54.78 | 51.13
MI120 | 58.17 | 54.30
MI121 | 59.13 | 55.19
MI132 | 54.78 | 51.13
MI139 | 66.73 | 62.29
MI157 | 66.73 | 62.29
MI167 | 63.98 | 59.72
MI168 | 63.98 | 59.72
MI178 | 54.78 | 51.13
MI186 | 55.08 | 51.41
MI194 | 63.98 | 59.72
MI198 | 62.99 | 58.79
MI880 | 63.98 | 59.72
MI901 | 66.73 | 62.29
MN001 | 89.79 | 83.81
MN002 | 89.79 | 83.81
MN003 | 66.42 | 61.99
MN006 | 62.11 | 57.97
MN007 | 66.42 | 61.99
MN008 | 61.26 | 57.17
MN009 | 61.26 | 57.17
MN018 | 61.26 | 57.17
MN021 | 75.15 | 70.14
MN032 | 61.26 | 57.17
MN034 | 61.26 | 57.17
MN037 | 61.26 | 57.17
MN038 | 68.41 | 63.85
MN049 | 61.26 | 57.17
MN063 | 66.70 | 62.26
MN067 | 89.79 | 83.81
MN073 | 66.42 | 61.99
MN077 | 66.83 | 62.38
MN085 | 61.26 | 57.17
MN090 | 61.26 | 57.17
MN101 | 61.26 | 57.17
MN107 | 61.26 | 57.17
MN128 | 61.26 | 57.17
MN144 | 89.79 | 83.81
MN147 | 89.79 | 83.81
MN151 | 74.34 | 69.40
MN152 | 89.79 | 83.81
MN153 | 61.26 | 57.17
MN154 | 61.26 | 57.17
MN158 | 75.15 | 70.14
MN161 | 64.27 | 59.98
MN163 | 89.79 | 83.81
MN164 | 75.15 | 70.14
MN166 | 61.26 | 57.17
MN167 | 66.70 | 62.26
MN168 | 64.27 | 59.98
MN169 | 61.26 | 57.17
MN170 | 89.79 | 83.81
MN171 | 63.23 | 59.00
MN172 | 68.41 | 63.85
MN173 | 61.26 | 57.17
MN174 | 61.26 | 57.17
MN176 | 61.26 | 57.17
MN177 | 61.26 | 57.17
MN178 | 64.27 | 59.98
MN179 | 61.26 | 57.17
MN180 | 61.26 | 57.17
MN182 | 61.26 | 57.17
MN184 | 89.79 | 83.81
MN188 | 61.26 | 57.17
MN190 | 61.26 | 57.17
MN191 | 61.26 | 57.17
MN192 | 61.26 | 57.17
MN193 | 68.83 | 64.25
MN197 | 61.26 | 57.17
MN200 | 61.26 | 57.17
MN203 | 64.27 | 59.98
MN212 | 89.79 | 83.81
MN216 | 89.79 | 83.81
MN219 | 66.70 | 62.26
MN220 | 66.83 | 62.38
MN801 | 89.79 | 83.81
MN802 | 89.79 | 83.81
MO001 | 66.03 | 61.62
MO002 | 64.19 | 59.90
MO003 | 63.30 | 59.08
MO004 | 66.03 | 61.62
MO006 | 66.03 | 61.62
MO007 | 63.30 | 59.08
MO008 | 63.30 | 59.08
MO009 | 63.30 | 59.08
MO010 | 63.30 | 59.08
MO014 | 63.30 | 59.08
MO016 | 63.30 | 59.08
MO017 | 64.19 | 59.90
MO030 | 64.19 | 59.90
MO037 | 63.30 | 59.08
MO040 | 63.30 | 59.08
MO053 | 64.19 | 59.90
MO058 | 63.30 | 59.08
MO064 | 63.30 | 59.08
MO065 | 63.30 | 59.08
MO072 | 63.30 | 59.08
MO074 | 63.30 | 59.08
MO107 | 63.30 | 59.08
MO129 | 63.30 | 59.08
MO133 | 63.30 | 59.08
MO145 | 63.30 | 59.08
MO149 | 63.30 | 59.08
MO188 | 63.30 | 59.08
MO190 | 63.30 | 59.08
MO193 | 64.19 | 59.90
MO196 | 64.19 | 59.90
MO197 | 64.19 | 59.90
MO198 | 63.30 | 59.08
MO199 | 66.03 | 61.62
MO200 | 63.30 | 59.08
MO203 | 63.30 | 59.08
MO204 | 64.19 | 59.90
MO205 | 66.03 | 61.62
MO206 | 63.30 | 59.08
MO207 | 63.30 | 59.08
MO209 | 63.30 | 59.08
MO210 | 64.19 | 59.90
MO212 | 63.30 | 59.08
MO213 | 64.19 | 59.90
MO215 | 63.30 | 59.08
MO216 | 63.30 | 59.08
MO217 | 63.30 | 59.08
MO227 | 66.03 | 61.62
MS004 | 63.36 | 59.14
MS005 | 66.43 | 62.01
MS006 | 63.36 | 59.14
MS016 | 67.53 | 63.03
MS019 | 63.36 | 59.14
MS030 | 63.36 | 59.14
MS040 | 66.43 | 62.01
MS057 | 63.36 | 59.14
MS058 | 78.40 | 73.16
MS095 | 63.36 | 59.14
MS103 | 78.40 | 73.16
MS107 | 63.36 | 59.14
MS128 | 63.36 | 59.14
MS301 | 66.43 | 62.01
MT001 | 86.92 | 81.13
MT002 | 76.95 | 71.83
MT003 | 71.63 | 66.85
MT004 | 83.29 | 77.73
MT006 | 67.48 | 62.99
MT015 | 73.11 | 68.22
MT033 | 78.24 | 73.01
MT036 | 73.11 | 68.22
MT901 | 86.92 | 81.13
NC001 | 65.65 | 61.27
NC002 | 78.43 | 73.19
NC003 | 71.93 | 67.12
NC004 | 62.57 | 58.40
NC006 | 67.94 | 63.42
NC007 | 65.65 | 61.27
NC008 | 71.93 | 67.12
NC009 | 66.73 | 62.27
NC011 | 67.94 | 63.42
NC012 | 67.94 | 63.42
NC013 | 78.43 | 73.19
NC014 | 62.57 | 58.40
NC015 | 65.65 | 61.27
NC018 | 62.57 | 58.40
NC019 | 65.65 | 61.27
NC020 | 62.57 | 58.40
NC021 | 78.43 | 73.19
NC022 | 65.65 | 61.27
NC025 | 62.57 | 58.40
NC032 | 62.57 | 58.40
NC035 | 63.16 | 58.95
NC039 | 64.63 | 60.33
NC050 | 65.78 | 61.39
NC056 | 69.17 | 64.56
NC057 | 71.93 | 67.12
NC059 | 67.94 | 63.42
NC065 | 71.93 | 67.12
NC070 | 68.42 | 63.85
NC071 | 64.63 | 60.33
NC072 | 68.13 | 63.60
NC075 | 62.57 | 58.40
NC077 | 62.57 | 58.40
NC081 | 67.94 | 63.42
NC087 | 65.65 | 61.27
NC089 | 62.57 | 58.40
NC098 | 65.65 | 61.27
NC102 | 68.42 | 63.85
NC104 | 78.43 | 73.19
NC118 | 62.57 | 58.40
NC120 | 78.43 | 73.19
NC134 | 68.42 | 63.85
NC137 | 65.65 | 61.27
NC138 | 62.57 | 58.40
NC139 | 62.57 | 58.40
NC140 | 65.65 | 61.27
NC141 | 62.57 | 58.40
NC144 | 65.65 | 61.27
NC145 | 62.57 | 58.40
NC146 | 62.57 | 58.40
NC147 | 65.65 | 61.27
NC149 | 62.57 | 58.40
NC150 | 62.57 | 58.40
NC151 | 62.57 | 58.40
NC152 | 65.65 | 61.27
NC155 | 62.57 | 58.40
NC159 | 69.17 | 64.56
NC160 | 62.57 | 58.40
NC161 | 62.57 | 58.40
NC163 | 65.78 | 61.39
NC164 | 78.43 | 73.19
NC165 | 62.57 | 58.40
NC166 | 62.57 | 58.40
NC167 | 63.74 | 59.49
NC173 | 65.65 | 61.27
NC175 | 65.65 | 61.27
NC901 | 62.57 | 58.40
ND001 | 75.15 | 70.14
ND002 | 75.04 | 70.03
ND003 | 75.04 | 70.03
ND009 | 75.04 | 70.03
ND010 | 75.15 | 70.14
ND011 | 75.04 | 70.03
ND012 | 75.15 | 70.14
ND013 | 75.04 | 70.03
ND014 | 75.15 | 70.14
ND015 | 75.04 | 70.03
ND016 | 75.04 | 70.03
ND017 | 75.04 | 70.03
ND019 | 75.04 | 70.03
ND021 | 75.15 | 70.14
ND022 | 75.04 | 70.03
ND025 | 75.04 | 70.03
ND026 | 75.04 | 70.03
ND030 | 75.04 | 70.03
ND031 | 75.04 | 70.03
ND035 | 75.04 | 70.03
ND036 | 75.04 | 70.03
ND037 | 75.04 | 70.03
ND038 | 75.04 | 70.03
ND039 | 75.04 | 70.03
ND044 | 75.04 | 70.03
ND049 | 75.04 | 70.03
ND052 | 75.04 | 70.03
ND054 | 75.04 | 70.03
ND055 | 75.04 | 70.03
ND070 | 75.04 | 70.03
ND901 | 75.04 | 70.03
NE001 | 69.61 | 64.97
NE002 | 68.92 | 64.33
NE003 | 68.92 | 64.33
NE004 | 68.92 | 64.33
NE010 | 68.92 | 64.33
NE041 | 68.92 | 64.33
NE078 | 68.92 | 64.33
NE083 | 68.92 | 64.33
NE094 | 68.92 | 64.33
NE100 | 68.92 | 64.33
NE104 | 68.92 | 64.33
NE114 | 68.92 | 64.33
NE120 | 68.92 | 64.33
NE123 | 68.92 | 64.33
NE141 | 68.92 | 64.33
NE143 | 68.92 | 64.33
NE150 | 68.92 | 64.33
NE153 | 69.61 | 64.97
NE157 | 68.92 | 64.33
NE174 | 69.61 | 64.97
NE175 | 69.01 | 64.41
NE179 | 68.92 | 64.33
NE180 | 68.92 | 64.33
NE181 | 68.92 | 64.33
NE182 | 68.92 | 64.33
NH001 | 92.84 | 86.64
NH002 | 98.63 | 92.05
NH003 | 96.13 | 89.73
NH004 | 96.13 | 89.73
NH005 | 105.72 | 98.66
NH006 | 96.13 | 89.73
NH007 | 83.27 | 77.72
NH008 | 96.13 | 89.73
NH009 | 85.96 | 80.22
NH010 | 98.80 | 92.21
NH011 | 75.78 | 70.74
NH012 | 80.73 | 75.35
NH013 | 96.13 | 89.73
NH014 | 96.13 | 89.73
NH015 | 75.78 | 70.74
NH016 | 75.78 | 70.74
NH022 | 117.46 | 109.64
NH888 | 98.63 | 92.05
NH901 | 92.84 | 86.64
NJ002 | 109.48 | 102.16
NJ003 | 109.48 | 102.16
NJ004 | 93.44 | 87.21
NJ006 | 112.11 | 104.65
NJ007 | 109.75 | 102.44
NJ008 | 109.75 | 102.44
NJ009 | 93.44 | 87.21
NJ010 | 90.84 | 84.79
NJ011 | 112.11 | 104.65
NJ012 | 93.44 | 87.21
NJ013 | 112.11 | 104.65
NJ014 | 92.57 | 86.42
NJ015 | 93.44 | 87.21
NJ021 | 112.11 | 104.65
NJ022 | 112.11 | 104.65
NJ023 | 109.48 | 102.16
NJ025 | 109.48 | 102.16
NJ026 | 93.44 | 87.21
NJ030 | 93.44 | 87.21
NJ032 | 109.48 | 102.16
NJ033 | 112.11 | 104.65
NJ035 | 112.11 | 104.65
NJ036 | 93.44 | 87.21
NJ037 | 109.48 | 102.16
NJ039 | 109.48 | 102.16
NJ042 | 112.11 | 104.65
NJ043 | 112.11 | 104.65
NJ044 | 112.11 | 104.65
NJ046 | 109.75 | 102.44
NJ047 | 112.11 | 104.65
NJ048 | 109.75 | 102.44
NJ049 | 89.00 | 83.06
NJ050 | 109.48 | 102.16
NJ051 | 90.84 | 84.79
NJ052 | 109.48 | 102.16
NJ054 | 109.75 | 102.44
NJ055 | 112.11 | 104.65
NJ056 | 109.75 | 102.44
NJ058 | 90.84 | 84.79
NJ059 | 92.57 | 86.42
NJ060 | 109.75 | 102.44
NJ061 | 89.00 | 83.06
NJ063 | 89.00 | 83.06
NJ065 | 109.75 | 102.44
NJ066 | 109.48 | 102.16
NJ067 | 112.11 | 104.65
NJ068 | 109.48 | 102.16
NJ070 | 112.11 | 104.65
NJ071 | 112.11 | 104.65
NJ073 | 90.84 | 84.79
NJ074 | 90.84 | 84.79
NJ075 | 112.11 | 104.65
NJ077 | 93.44 | 87.21
NJ081 | 109.75 | 102.44
NJ083 | 93.44 | 87.21
NJ084 | 112.11 | 104.65
NJ086 | 109.48 | 102.16
NJ088 | 109.48 | 102.16
NJ089 | 112.11 | 104.65
NJ090 | 112.11 | 104.65
NJ092 | 109.48 | 102.16
NJ095 | 109.75 | 102.44
NJ097 | 112.11 | 104.65
NJ099 | 109.48 | 102.16
NJ102 | 109.48 | 102.16
NJ105 | 109.48 | 102.16
NJ106 | 112.11 | 104.65
NJ108 | 109.48 | 102.16
NJ109 | 109.48 | 102.16
NJ110 | 112.11 | 104.65
NJ112 | 112.11 | 104.65
NJ113 | 109.48 | 102.16
NJ114 | 112.11 | 104.65
NJ118 | 90.84 | 84.79
NJ204 | 90.84 | 84.79
NJ212 | 107.56 | 100.39
NJ214 | 109.75 | 102.44
NJ880 | 109.75 | 102.44
NJ881 | 112.11 | 104.65
NJ882 | 109.48 | 102.16
NJ902 | 90.84 | 84.79
NJ912 | 109.48 | 102.16
NM001 | 78.21 | 73.00
NM002 | 60.44 | 56.41
NM003 | 62.07 | 57.93
NM006 | 78.11 | 72.89
NM009 | 92.55 | 86.37
NM020 | 61.16 | 57.07
NM033 | 60.44 | 56.41
NM039 | 60.44 | 56.41
NM050 | 92.55 | 86.37
NM057 | 78.21 | 73.00
NM061 | 60.44 | 56.41
NM063 | 61.16 | 57.07
NM066 | 76.97 | 71.83
NM067 | 60.44 | 56.41
NM077 | 78.21 | 73.00
NM088 | 64.45 | 60.16
NV001 | 82.23 | 76.75
NV018 | 92.37 | 86.22
NV905 | 82.23 | 76.75
NY001 | 73.89 | 68.97
NY002 | 69.06 | 64.47
NY003 | 115.02 | 107.36
NY005 | 99.98 | 93.31
NY006 | 67.65 | 63.15
NY009 | 80.30 | 74.95
NY012 | 80.30 | 74.95
NY015 | 80.30 | 74.95
NY016 | 70.07 | 65.40
NY017 | 61.14 | 57.06
NY018 | 64.81 | 60.49
NY019 | 67.65 | 63.15
NY020 | 80.30 | 74.95
NY021 | 70.58 | 65.88
NY022 | 80.30 | 74.95
NY023 | 115.02 | 107.36
NY025 | 80.30 | 74.95
NY027 | 73.89 | 68.97
NY028 | 80.30 | 74.95
NY033 | 80.30 | 74.95
NY034 | 67.65 | 63.15
NY035 | 115.02 | 107.36
NY038 | 115.02 | 107.36
NY041 | 84.53 | 78.90
NY042 | 115.02 | 107.36
NY044 | 84.53 | 78.90
NY045 | 90.43 | 84.40
NY048 | 57.99 | 54.12
NY049 | 102.76 | 95.92
NY050 | 115.02 | 107.36
NY051 | 102.76 | 95.92
NY054 | 78.97 | 73.72
NY057 | 115.02 | 107.36
NY059 | 67.65 | 63.15
NY060 | 74.27 | 69.32
NY061 | 66.95 | 62.48
NY062 | 102.76 | 95.92
NY065 | 67.82 | 63.31
NY066 | 68.34 | 63.80
NY067 | 64.69 | 60.37
NY068 | 63.38 | 59.14
NY070 | 69.06 | 64.47
NY071 | 75.78 | 70.72
NY073 | 76.02 | 70.96
NY077 | 115.02 | 107.36
NY079 | 76.02 | 70.96
NY084 | 99.98 | 93.31
NY085 | 115.02 | 107.36
NY086 | 115.02 | 107.36
NY087 | 62.33 | 58.16
NY088 | 115.02 | 107.36
NY089 | 84.53 | 78.90
NY091 | 69.06 | 64.47
NY094 | 115.02 | 107.36
NY098 | 67.65 | 63.15
NY102 | 73.89 | 68.97
NY103 | 90.43 | 84.40
NY107 | 73.89 | 68.97
NY109 | 67.65 | 63.15
NY110 | 99.98 | 93.31
NY111 | 115.02 | 107.36
NY113 | 115.02 | 107.36
NY114 | 99.98 | 93.31
NY117 | 115.02 | 107.36
NY120 | 115.02 | 107.36
NY121 | 115.02 | 107.36
NY123 | 115.02 | 107.36
NY125 | 102.76 | 95.92
NY127 | 115.02 | 107.36
NY128 | 115.02 | 107.36
NY130 | 115.02 | 107.36
NY132 | 115.02 | 107.36
NY134 | 102.76 | 95.92
NY137 | 102.76 | 95.92
NY138 | 99.98 | 93.31
NY141 | 115.02 | 107.36
NY146 | 115.02 | 107.36
NY147 | 115.02 | 107.36
NY148 | 99.98 | 93.31
NY149 | 115.02 | 107.36
NY151 | 115.02 | 107.36
NY152 | 115.02 | 107.36
NY154 | 115.02 | 107.36
NY158 | 102.76 | 95.92
NY159 | 115.02 | 107.36
NY160 | 99.98 | 93.31
NY165 | 115.02 | 107.36
NY402 | 71.35 | 66.59
NY403 | 57.73 | 53.88
NY404 | 69.06 | 64.47
NY405 | 69.06 | 64.47
NY406 | 84.53 | 78.90
NY408 | 80.30 | 74.95
NY409 | 69.06 | 64.47
NY413 | 74.27 | 69.32
NY416 | 80.30 | 74.95
NY417 | 67.65 | 63.15
NY421 | 80.30 | 74.95
NY422 | 80.30 | 74.95
NY424 | 80.30 | 74.95
NY427 | 80.30 | 74.95
NY428 | 80.30 | 74.95
NY430 | 80.30 | 74.95
NY431 | 80.30 | 74.95
NY433 | 57.99 | 54.12
NY443 | 67.65 | 63.15
NY447 | 80.30 | 74.95
NY449 | 69.06 | 64.47
NY501 | 80.30 | 74.95
NY503 | 80.30 | 74.95
NY504 | 73.89 | 68.97
NY505 | 70.07 | 65.40
NY512 | 80.30 | 74.95
NY513 | 80.30 | 74.95
NY516 | 80.30 | 74.95
NY519 | 80.30 | 74.95
NY521 | 73.89 | 68.97
NY522 | 62.33 | 58.16
NY527 | 73.89 | 68.97
NY529 | 90.43 | 84.40
NY530 | 74.27 | 69.32
NY532 | 80.30 | 74.95
NY534 | 67.65 | 63.15
NY535 | 80.30 | 74.95
NY538 | 80.30 | 74.95
NY541 | 63.38 | 59.14
NY552 | 67.65 | 63.15
NY557 | 80.30 | 74.95
NY561 | 80.30 | 74.95
NY562 | 80.30 | 74.95
NY564 | 80.30 | 74.95
NY630 | 80.30 | 74.95
NY888 | 115.02 | 107.36
NY889 | 61.14 | 57.06
NY891 | 115.02 | 107.36
NY892 | 115.02 | 107.36
NY895 | 115.02 | 107.36
NY904 | 115.02 | 107.36
NY912 | 69.06 | 64.47
OH001 | 67.79 | 63.26
OH002 | 61.56 | 57.45
OH003 | 71.46 | 66.69
OH004 | 69.20 | 64.58
OH005 | 63.13 | 58.92
OH006 | 71.03 | 66.29
OH007 | 70.29 | 65.62
OH008 | 61.56 | 57.45
OH009 | 59.05 | 55.11
OH010 | 59.05 | 55.11
OH012 | 71.46 | 66.69
OH014 | 61.97 | 57.84
OH015 | 69.20 | 64.58
OH016 | 60.56 | 56.52
OH018 | 60.56 | 56.52
OH019 | 60.35 | 56.32
OH020 | 59.05 | 55.11
OH021 | 63.13 | 58.92
OH022 | 63.13 | 58.92
OH024 | 59.05 | 55.11
OH025 | 71.46 | 66.69
OH026 | 60.02 | 56.01
OH027 | 71.46 | 66.69
OH028 | 62.88 | 58.68
OH029 | 69.68 | 65.02
OH030 | 59.05 | 55.11
OH031 | 70.29 | 65.62
OH032 | 59.26 | 55.31
OH033 | 59.05 | 55.11
OH034 | 59.26 | 55.31
OH035 | 59.05 | 55.11
OH036 | 59.32 | 55.37
OH037 | 59.05 | 55.11
OH038 | 69.20 | 64.58
OH039 | 59.05 | 55.11
OH040 | 59.05 | 55.11
OH041 | 59.05 | 55.11
OH042 | 71.46 | 66.69
OH043 | 67.79 | 63.26
OH044 | 61.56 | 57.45
OH045 | 59.05 | 55.11
OH046 | 59.05 | 55.11
OH047 | 59.05 | 55.11
OH049 | 69.20 | 64.58
OH050 | 59.05 | 55.11
OH053 | 59.05 | 55.11
OH054 | 61.53 | 57.43
OH056 | 59.05 | 55.11
OH058 | 59.05 | 55.11
OH059 | 67.79 | 63.26
OH060 | 59.05 | 55.11
OH061 | 60.41 | 56.38
OH062 | 63.13 | 58.92
OH063 | 59.05 | 55.11
OH066 | 59.05 | 55.11
OH067 | 59.05 | 55.11
OH069 | 59.05 | 55.11
OH070 | 67.79 | 63.26
OH071 | 71.03 | 66.29
OH072 | 59.05 | 55.11
OH073 | 71.46 | 66.69
OH074 | 60.70 | 56.65
OH075 | 59.05 | 55.11
OH076 | 59.05 | 55.11
OH077 | 59.05 | 55.11
OH078 | 59.05 | 55.11
OH079 | 67.79 | 63.26
OH080 | 60.49 | 56.45
OH081 | 60.56 | 56.52
OH082 | 59.19 | 55.24
OH083 | 67.79 | 63.26
OH085 | 71.03 | 66.29
OH086 | 59.05 | 55.11
OH882 | 71.46 | 66.69
OK002 | 63.67 | 59.43
OK005 | 61.94 | 57.81
OK006 | 61.62 | 57.52
OK024 | 61.62 | 57.52
OK027 | 61.62 | 57.52
OK032 | 61.62 | 57.52
OK033 | 61.94 | 57.81
OK044 | 61.62 | 57.52
OK062 | 61.62 | 57.52
OK067 | 61.62 | 57.52
OK073 | 61.94 | 57.81
OK095 | 63.35 | 59.13
OK096 | 61.62 | 57.52
OK099 | 61.62 | 57.52
OK111 | 61.62 | 57.52
OK118 | 61.62 | 57.52
OK139 | 63.67 | 59.43
OK142 | 61.94 | 57.81
OK146 | 61.62 | 57.52
OK148 | 63.35 | 59.13
OK901 | 63.67 | 59.43
OR001 | 83.78 | 78.19
OR002 | 83.78 | 78.19
OR003 | 84.99 | 79.33
OR005 | 79.10 | 73.83
OR006 | 96.28 | 89.86
OR007 | 81.32 | 75.89
OR008 | 89.95 | 83.95
OR011 | 89.95 | 83.95
OR014 | 89.95 | 83.95
OR015 | 95.65 | 89.27
OR016 | 83.78 | 78.19
OR017 | 77.62 | 72.46
OR019 | 85.05 | 79.37
OR020 | 84.99 | 79.33
OR022 | 83.78 | 78.19
OR026 | 86.03 | 80.29
OR027 | 77.62 | 72.46
OR028 | 83.78 | 78.19
OR031 | 87.14 | 81.34
OR032 | 81.32 | 75.89
OR034 | 92.48 | 86.32
PA001 | 63.40 | 59.17
PA002 | 90.84 | 84.79
PA003 | 61.46 | 57.36
PA004 | 77.37 | 72.20
PA005 | 63.40 | 59.17
PA006 | 63.40 | 59.17
PA007 | 90.84 | 84.79
PA008 | 79.18 | 73.90
PA009 | 75.45 | 70.41
PA010 | 63.40 | 59.17
PA011 | 77.37 | 72.20
PA012 | 90.84 | 84.79
PA013 | 76.96 | 71.83
PA014 | 63.40 | 59.17
PA015 | 63.40 | 59.17
PA016 | 69.71 | 65.06
PA017 | 63.40 | 59.17
PA018 | 63.40 | 59.17
PA019 | 65.06 | 60.72
PA020 | 71.42 | 66.66
PA021 | 65.06 | 60.72
PA022 | 72.68 | 67.83
PA023 | 90.84 | 84.79
PA024 | 77.37 | 72.20
PA026 | 64.00 | 59.73
PA027 | 60.66 | 56.61
PA028 | 82.51 | 77.02
PA029 | 65.53 | 61.16
PA030 | 61.46 | 57.36
PA031 | 67.00 | 62.53
PA032 | 64.66 | 60.34
PA033 | 64.00 | 59.73
PA034 | 69.13 | 64.51
PA035 | 79.18 | 73.90
PA036 | 80.41 | 75.06
PA037 | 69.71 | 65.06
PA038 | 61.46 | 57.36
PA039 | 74.47 | 69.51
PA041 | 63.86 | 59.60
PA042 | 61.46 | 57.36
PA043 | 61.46 | 57.36
PA044 | 61.46 | 57.36
PA045 | 64.56 | 60.25
PA046 | 90.84 | 84.79
PA047 | 61.46 | 57.36
PA048 | 75.01 | 70.01
PA050 | 62.31 | 58.17
PA051 | 90.84 | 84.79
PA052 | 79.18 | 73.90
PA053 | 64.56 | 60.25
PA054 | 63.17 | 58.95
PA055 | 64.56 | 60.25
PA056 | 61.77 | 57.65
PA057 | 61.46 | 57.36
PA058 | 64.00 | 59.73
PA059 | 61.77 | 57.65
PA060 | 64.56 | 60.25
PA061 | 64.56 | 60.25
PA063 | 64.56 | 60.25
PA064 | 62.31 | 58.17
PA065 | 64.56 | 60.25
PA067 | 77.37 | 72.20
PA068 | 62.31 | 58.17
PA069 | 67.00 | 62.53
PA071 | 75.45 | 70.41
PA073 | 61.46 | 57.36
PA074 | 62.31 | 58.17
PA075 | 79.18 | 73.90
PA076 | 77.37 | 72.20
PA077 | 63.17 | 58.95
PA078 | 100.29 | 93.61
PA079 | 64.00 | 59.73
PA080 | 63.17 | 58.95
PA081 | 77.37 | 72.20
PA082 | 73.06 | 68.19
PA083 | 61.99 | 57.86
PA085 | 60.66 | 56.61
PA086 | 61.77 | 57.65
PA087 | 76.96 | 71.83
PA088 | 86.25 | 80.49
PA090 | 80.41 | 75.06
PA091 | 73.31 | 68.42
PA092 | 62.46 | 58.30
RI001 | 116.13 | 108.40
RI002 | 116.13 | 108.40
RI003 | 116.13 | 108.40
RI004 | 116.13 | 108.40
RI005 | 110.95 | 103.54
RI006 | 116.13 | 108.40
RI007 | 116.13 | 108.40
RI008 | 100.98 | 94.25
RI009 | 116.13 | 108.40
RI010 | 116.13 | 108.40
RI011 | 116.13 | 108.40
RI012 | 116.13 | 108.40
RI014 | 116.13 | 108.40
RI015 | 116.13 | 108.40
RI016 | 116.13 | 108.40
RI017 | 116.13 | 108.40
RI018 | 116.13 | 108.40
RI019 | 116.13 | 108.40
RI020 | 116.13 | 108.40
RI022 | 116.13 | 108.40
RI024 | 116.13 | 108.40
RI026 | 116.13 | 108.40
RI027 | 116.13 | 108.40
RI028 | 116.13 | 108.40
RI029 | 116.13 | 108.40
RI901 | 116.13 | 108.40
RQ006 | 79.99 | 74.65
RQ007 | 74.42 | 69.46
RQ008 | 79.99 | 74.65
RQ009 | 74.42 | 69.46
RQ010 | 74.42 | 69.46
RQ011 | 79.99 | 74.65
RQ012 | 74.42 | 69.46
RQ013 | 79.99 | 74.65
RQ014 | 79.99 | 74.65
RQ015 | 79.99 | 74.65
RQ016 | 79.99 | 74.65
RQ017 | 74.42 | 69.46
RQ018 | 74.42 | 69.46
RQ019 | 79.99 | 74.65
RQ020 | 81.73 | 76.28
RQ021 | 79.99 | 74.65
RQ022 | 79.99 | 74.65
RQ023 | 79.99 | 74.65
RQ024 | 79.99 | 74.65
RQ025 | 79.99 | 74.65
RQ026 | 74.42 | 69.46
RQ027 | 79.99 | 74.65
RQ028 | 79.99 | 74.65
RQ029 | 74.42 | 69.46
RQ030 | 74.42 | 69.46
RQ031 | 74.42 | 69.46
RQ032 | 79.99 | 74.65
RQ033 | 74.42 | 69.46
RQ034 | 79.99 | 74.65
RQ035 | 74.42 | 69.46
RQ036 | 79.99 | 74.65
RQ037 | 74.42 | 69.46
RQ038 | 79.99 | 74.65
RQ039 | 81.73 | 76.28
RQ040 | 81.73 | 76.28
RQ041 | 74.42 | 69.46
RQ042 | 74.42 | 69.46
RQ043 | 74.42 | 69.46
RQ044 | 79.99 | 74.65
RQ045 | 79.99 | 74.65
RQ046 | 74.42 | 69.46
RQ047 | 79.99 | 74.65
RQ048 | 74.42 | 69.46
RQ049 | 79.99 | 74.65
RQ050 | 79.99 | 74.65
RQ052 | 74.42 | 69.46
RQ053 | 79.99 | 74.65
RQ054 | 79.99 | 74.65
RQ055 | 74.42 | 69.46
RQ056 | 79.99 | 74.65
RQ057 | 74.42 | 69.46
RQ058 | 74.42 | 69.46
RQ059 | 74.42 | 69.46
RQ060 | 74.42 | 69.46
RQ061 | 74.42 | 69.46
RQ062 | 74.42 | 69.46
RQ063 | 79.99 | 74.65
RQ064 | 79.99 | 74.65
RQ065 | 74.42 | 69.46
RQ066 | 74.42 | 69.46
RQ067 | 74.42 | 69.46
RQ068 | 74.42 | 69.46
RQ069 | 74.42 | 69.46
RQ070 | 79.99 | 74.65
RQ071 | 74.42 | 69.46
RQ072 | 79.99 | 74.65
RQ073 | 74.42 | 69.46
RQ074 | 74.42 | 69.46
RQ075 | 79.99 | 74.65
RQ077 | 79.99 | 74.65
RQ080 | 74.42 | 69.46
RQ081 | 79.99 | 74.65
RQ082 | 79.99 | 74.65
RQ083 | 79.99 | 74.65
RQ901 | 79.99 | 74.65
RQ911 | 79.99 | 74.65
SC001 | 70.95 | 66.22
SC002 | 71.72 | 66.94
SC003 | 65.47 | 61.10
SC004 | 65.47 | 61.10
SC005 | 65.47 | 61.10
SC007 | 68.81 | 64.22
SC008 | 65.47 | 61.10
SC015 | 63.41 | 59.18
SC016 | 65.47 | 61.10
SC018 | 65.47 | 61.10
SC019 | 65.47 | 61.10
SC020 | 65.47 | 61.10
SC021 | 63.41 | 59.18
SC022 | 71.93 | 67.12
SC023 | 65.47 | 61.10
SC024 | 70.95 | 66.22
SC025 | 65.47 | 61.10
SC026 | 66.82 | 62.35
SC027 | 65.47 | 61.10
SC028 | 63.41 | 59.18
SC029 | 65.47 | 61.10
SC030 | 63.41 | 59.18
SC031 | 63.41 | 59.18
SC032 | 65.47 | 61.10
SC033 | 63.41 | 59.18
SC034 | 65.47 | 61.10
SC035 | 63.41 | 59.18
SC036 | 71.93 | 67.12
SC037 | 65.47 | 61.10
SC046 | 71.93 | 67.12
SC056 | 70.95 | 66.22
SC057 | 70.95 | 66.22
SC059 | 63.41 | 59.18
SC911 | 71.72 | 66.94
SD010 | 69.03 | 64.42
SD011 | 67.22 | 62.74
SD014 | 67.22 | 62.74
SD016 | 69.03 | 64.42
SD021 | 67.22 | 62.74
SD026 | 67.22 | 62.74
SD034 | 67.22 | 62.74
SD035 | 73.04 | 68.16
SD036 | 67.22 | 62.74
SD037 | 67.22 | 62.74
SD039 | 69.03 | 64.42
SD043 | 67.22 | 62.74
SD045 | 67.22 | 62.74
SD047 | 67.22 | 62.74
SD048 | 67.22 | 62.74
SD055 | 67.22 | 62.74
SD056 | 67.22 | 62.74
SD057 | 67.22 | 62.74
SD058 | 67.22 | 62.74
SD059 | 67.22 | 62.74
TN001 | 67.53 | 63.03
TN002 | 62.62 | 58.44
TN003 | 62.99 | 58.80
TN004 | 68.46 | 63.89
TN005 | 74.84 | 69.85
TN006 | 62.62 | 58.44
TN007 | 62.62 | 58.44
TN012 | 62.99 | 58.80
TN013 | 62.03 | 57.90
TN020 | 74.84 | 69.85
TN024 | 62.03 | 57.90
TN026 | 62.03 | 57.90
TN035 | 74.84 | 69.85
TN038 | 62.62 | 58.44
TN042 | 62.03 | 57.90
TN054 | 62.62 | 58.44
TN062 | 62.03 | 57.90
TN065 | 62.99 | 58.80
TN066 | 62.62 | 58.44
TN076 | 62.62 | 58.44
TN079 | 74.84 | 69.85
TN088 | 62.99 | 58.80
TN113 | 62.99 | 58.80
TN117 | 68.46 | 63.89
TN903 | 74.84 | 69.85
TQ901 | 115.26 | 107.59
TX001 | 83.25 | 77.71
TX003 | 70.73 | 66.00
TX004 | 79.54 | 74.24
TX005 | 75.51 | 70.49
TX006 | 73.18 | 68.32
TX007 | 64.89 | 60.56
TX008 | 74.62 | 69.63
TX009 | 85.36 | 79.68
TX010 | 63.99 | 59.72
TX011 | 63.99 | 59.72
TX012 | 75.51 | 70.49
TX014 | 63.99 | 59.72
TX016 | 60.94 | 56.88
TX017 | 75.51 | 70.49
TX018 | 63.99 | 59.72
TX019 | 60.94 | 56.88
TX021 | 60.94 | 56.88
TX023 | 73.12 | 68.24
TX025 | 64.89 | 60.56
TX027 | 85.36 | 79.68
TX028 | 64.15 | 59.86
TX029 | 64.15 | 59.86
TX030 | 63.99 | 59.72
TX031 | 83.25 | 77.71
TX032 | 75.51 | 70.49
TX034 | 73.12 | 68.24
TX035 | 61.09 | 57.01
TX037 | 73.12 | 68.24
TX039 | 60.94 | 56.88
TX042 | 60.94 | 56.88
TX044 | 60.94 | 56.88
TX046 | 64.15 | 59.86
TX048 | 60.94 | 56.88
TX049 | 60.94 | 56.88
TX051 | 64.15 | 59.86
TX062 | 64.15 | 59.86
TX064 | 64.15 | 59.86
TX065 | 64.89 | 60.56
TX072 | 60.94 | 56.88
TX073 | 64.15 | 59.86
TX075 | 60.94 | 56.88
TX079 | 63.99 | 59.72
TX081 | 60.94 | 56.88
TX085 | 88.67 | 82.75
TX087 | 83.25 | 77.71
TX095 | 85.36 | 79.68
TX096 | 60.94 | 56.88
TX105 | 60.94 | 56.88
TX111 | 65.49 | 61.12
TX114 | 60.94 | 56.88
TX128 | 85.36 | 79.68
TX134 | 60.94 | 56.88
TX137 | 63.99 | 59.72
TX147 | 60.94 | 56.88
TX152 | 60.94 | 56.88
TX158 | 63.99 | 59.72
TX163 | 74.62 | 69.63
TX164 | 74.62 | 69.63
TX173 | 64.89 | 60.56
TX174 | 74.62 | 69.63
TX175 | 60.94 | 56.88
TX177 | 64.15 | 59.86
TX178 | 60.94 | 56.88
TX183 | 60.94 | 56.88
TX189 | 60.94 | 56.88
TX193 | 73.18 | 68.32
TX197 | 63.99 | 59.72
TX201 | 60.94 | 56.88
TX202 | 64.15 | 59.86
TX206 | 64.89 | 60.56
TX208 | 63.99 | 59.72
TX210 | 63.99 | 59.72
TX217 | 60.94 | 56.88
TX224 | 64.15 | 59.86
TX236 | 63.99 | 59.72
TX242 | 60.94 | 56.88
TX257 | 63.99 | 59.72
TX259 | 83.25 | 77.71
TX263 | 60.94 | 56.88
TX264 | 83.25 | 77.71
TX266 | 83.25 | 77.71
TX272 | 60.94 | 56.88
TX284 | 60.94 | 56.88
TX298 | 60.94 | 56.88
TX300 | 60.94 | 56.88
TX302 | 74.62 | 69.63
TX303 | 73.18 | 68.32
TX309 | 60.94 | 56.88
TX313 | 74.62 | 69.63
TX322 | 83.25 | 77.71
TX327 | 63.99 | 59.72
TX330 | 60.94 | 56.88
TX332 | 60.94 | 56.88
TX335 | 60.94 | 56.88
TX341 | 71.76 | 66.98
TX343 | 73.18 | 68.32
TX349 | 79.54 | 74.24
TX350 | 73.18 | 68.32
TX358 | 60.94 | 56.88
TX372 | 60.94 | 56.88
TX376 | 60.94 | 56.88
TX377 | 83.25 | 77.71
TX378 | 61.09 | 57.01
TX381 | 60.94 | 56.88
TX392 | 85.36 | 79.68
TX395 | 62.95 | 58.76
TX396 | 60.94 | 56.88
TX397 | 60.94 | 56.88
TX421 | 60.94 | 56.88
TX431 | 79.54 | 74.24
TX432 | 70.73 | 66.00
TX433 | 79.54 | 74.24
TX434 | 85.36 | 79.68
TX435 | 85.36 | 79.68
TX436 | 85.36 | 79.68
TX439 | 70.73 | 66.00
TX440 | 75.51 | 70.49
TX441 | 75.51 | 70.49
TX444 | 63.99 | 59.72
TX445 | 64.15 | 59.86
TX447 | 64.15 | 59.86
TX448 | 64.15 | 59.86
TX449 | 60.94 | 56.88
TX452 | 73.18 | 68.32
TX454 | 60.94 | 56.88
TX455 | 82.23 | 76.75
TX456 | 72.96 | 68.10
TX457 | 68.34 | 63.79
TX458 | 63.99 | 59.72
TX459 | 71.76 | 66.98
TX461 | 64.83 | 60.52
TX470 | 63.99 | 59.72
TX472 | 63.99 | 59.72
TX480 | 83.25 | 77.71
TX481 | 63.99 | 59.72
TX482 | 63.99 | 59.72
TX483 | 75.51 | 70.49
TX484 | 81.55 | 76.11
TX485 | 60.94 | 56.88
TX486 | 61.94 | 57.81
TX488 | 60.94 | 56.88
TX493 | 85.36 | 79.68
TX495 | 79.54 | 74.24
TX497 | 64.15 | 59.86
TX498 | 65.49 | 61.12
TX499 | 63.99 | 59.72
TX500 | 60.94 | 56.88
TX505 | 75.51 | 70.49
TX509 | 64.89 | 60.56
TX511 | 60.94 | 56.88
TX512 | 60.94 | 56.88
TX514 | 63.99 | 59.72
TX516 | 60.94 | 56.88
TX519 | 60.94 | 56.88
TX522 | 85.36 | 79.68
TX523 | 65.49 | 61.12
TX526 | 85.52 | 79.82
TX533 | 85.36 | 79.68
TX534 | 82.23 | 76.75
TX535 | 60.94 | 56.88
TX537 | 60.94 | 56.88
TX542 | 63.99 | 59.72
TX546 | 63.99 | 59.72
TX559 | 85.36 | 79.68
TX560 | 75.51 | 70.49
TX901 | 75.51 | 70.49
UT002 | 69.85 | 65.20
UT003 | 69.85 | 65.20
UT004 | 69.85 | 65.20
UT006 | 74.57 | 69.59
UT007 | 69.85 | 65.20
UT009 | 69.85 | 65.20
UT011 | 69.85 | 65.20
UT014 | 84.82 | 79.16
UT015 | 84.82 | 79.16
UT016 | 84.82 | 79.16
UT020 | 69.85 | 65.20
UT021 | 71.94 | 67.15
UT022 | 69.85 | 65.20
UT025 | 69.85 | 65.20
UT026 | 69.85 | 65.20
UT028 | 84.82 | 79.16
UT029 | 84.82 | 79.16
UT030 | 69.85 | 65.20
UT031 | 74.57 | 69.59
VA001 | 77.79 | 72.60
VA002 | 62.62 | 58.44
VA003 | 77.79 | 72.60
VA004 | 114.69 | 107.05
VA005 | 70.56 | 65.85
VA006 | 77.79 | 72.60
VA007 | 70.56 | 65.85
VA010 | 59.70 | 55.72
VA011 | 62.10 | 57.95
VA012 | 77.79 | 72.60
VA013 | 62.80 | 58.61
VA014 | 62.80 | 58.61
VA015 | 56.16 | 52.42
VA016 | 78.90 | 73.64
VA017 | 77.79 | 72.60
VA018 | 56.16 | 52.42
VA019 | 114.69 | 107.05
VA020 | 70.56 | 65.85
VA021 | 56.16 | 52.42
VA022 | 57.09 | 53.27
VA023 | 57.09 | 53.27
VA024 | 56.16 | 52.42
VA025 | 77.79 | 72.60
VA028 | 114.69 | 107.05
VA030 | 56.16 | 52.42
VA031 | 62.62 | 58.44
VA032 | 62.62 | 58.44
VA034 | 56.16 | 52.42
VA035 | 114.69 | 107.05
VA036 | 78.90 | 73.64
VA037 | 56.30 | 52.54
VA038 | 56.16 | 52.42
VA039 | 77.79 | 72.60
VA040 | 56.16 | 52.42
VA041 | 77.79 | 72.60
VA042 | 62.62 | 58.44
VA044 | 57.06 | 53.26
VA046 | 114.69 | 107.05
VA901 | 70.56 | 65.85
VQ901 | 97.78 | 91.26
VT001 | 93.98 | 87.72
VT002 | 82.48 | 76.98
VT003 | 85.32 | 79.63
VT004 | 84.47 | 78.84
VT005 | 79.08 | 73.81
VT006 | 93.98 | 87.72
VT008 | 79.08 | 73.81
VT009 | 79.93 | 74.60
VT901 | 93.98 | 87.72
WA001 | 101.38 | 94.60
WA002 | 101.38 | 94.60
WA003 | 89.54 | 83.57
WA004 | 84.56 | 78.92
WA005 | 86.08 | 80.36
WA006 | 101.38 | 94.60
WA007 | 69.02 | 64.42
WA008 | 83.78 | 78.19
WA011 | 101.38 | 94.60
WA012 | 78.20 | 72.98
WA013 | 78.47 | 73.23
WA014 | 65.20 | 60.86
WA017 | 67.21 | 62.73
WA018 | 84.56 | 78.92
WA020 | 69.02 | 64.42
WA021 | 78.20 | 72.98
WA024 | 99.35 | 92.71
WA025 | 96.24 | 89.81
WA036 | 89.54 | 83.57
WA039 | 101.38 | 94.60
WA042 | 81.31 | 75.88
WA049 | 92.51 | 86.33
WA054 | 86.08 | 80.36
WA055 | 77.87 | 72.69
WA057 | 84.54 | 78.90
WA061 | 87.99 | 82.12
WA064 | 80.07 | 74.72
WA071 | 71.46 | 66.69
WI001 | 66.42 | 61.99
WI002 | 65.72 | 61.34
WI003 | 73.14 | 68.27
WI006 | 62.88 | 58.69
WI011 | 55.85 | 52.12
WI020 | 89.79 | 83.81
WI031 | 54.95 | 51.28
WI043 | 55.34 | 51.66
WI045 | 54.95 | 51.28
WI047 | 54.95 | 51.28
WI048 | 54.95 | 51.28
WI060 | 89.79 | 83.81
WI064 | 60.98 | 56.92
WI065 | 55.34 | 51.66
WI068 | 55.85 | 52.12
WI069 | 55.85 | 52.12
WI070 | 54.95 | 51.28
WI083 | 65.72 | 61.34
WI085 | 54.95 | 51.28
WI091 | 54.95 | 51.28
WI096 | 54.95 | 51.28
WI127 | 54.95 | 51.28
WI131 | 54.95 | 51.28
WI142 | 65.72 | 61.34
WI160 | 54.95 | 51.28
WI166 | 54.95 | 51.28
WI183 | 60.04 | 56.03
WI186 | 55.09 | 51.41
WI193 | 54.95 | 51.28
WI195 | 67.96 | 63.42
WI201 | 65.72 | 61.34
WI203 | 60.98 | 56.92
WI204 | 55.85 | 52.12
WI205 | 54.95 | 51.28
WI206 | 54.95 | 51.28
WI208 | 54.95 | 51.28
WI213 | 55.34 | 51.66
WI214 | 73.14 | 68.27
WI218 | 65.72 | 61.34
WI219 | 60.98 | 56.92
WI221 | 54.95 | 51.28
WI222 | 54.95 | 51.28
WI231 | 54.95 | 51.28
WI233 | 54.95 | 51.28
WI237 | 55.97 | 52.24
WI241 | 54.95 | 51.28
WI242 | 54.95 | 51.28
WI244 | 60.32 | 56.30
WI245 | 54.95 | 51.28
WI246 | 55.58 | 51.87
WI248 | 54.95 | 51.28
WI256 | 54.95 | 51.28
WI901 | 54.95 | 51.28
WV001 | 73.20 | 68.32
WV003 | 59.05 | 55.11
WV004 | 60.35 | 56.32
WV005 | 57.93 | 54.07
WV006 | 61.01 | 56.94
WV009 | 61.66 | 57.55
WV010 | 63.75 | 59.50
WV015 | 57.93 | 54.07
WV016 | 61.97 | 57.84
WV017 | 57.70 | 53.86
WV018 | 57.70 | 53.86
WV027 | 58.91 | 54.99
WV034 | 57.70 | 53.86
WV035 | 58.91 | 54.99
WV037 | 60.35 | 56.32
WV039 | 57.93 | 54.07
WV042 | 57.93 | 54.07
WV045 | 57.70 | 53.86
WY002 | 85.45 | 79.76
WY003 | 68.38 | 63.83
WY004 | 102.96 | 96.10
WY013 | 68.38 | 63.83

[FR Doc. 2022-23696 Filed 10-31-22; 8:45 am]

BILLING CODE 4210-67-P